ENVIRONMENTAL PROTECTION AGENCY

40 CFR Part 52

[EPA-R04-OAR-2009-0140; FRL-9789-6]

Approval and Promulgation of Air Quality Implementation Plans: North Carolina; Control Techniques Guidelines and Reasonably Available Control Technology

AGENCY: Environmental Protection Agency (EPA).

ACTION: Proposed rule.

SUMMARY: EPA is proposing to approve several State Implementation Plan (SIP) revisions submitted to EPA by the State of North Carolina, through the North Carolina Department of Environment and Natural Resources (NC DENR), to address the nitrogen oxides (NOx) reasonably available control technology (RACT) requirements for the North Carolina portion of the Charlotte-Gastonia-Rock Hill, North Carolina-South Carolina 1997 8-hour ozone nonattainment area (hereafter referred to as the “bi-state Charlotte Area”). The bi-state Charlotte Area for the 1997 8-hour ozone national ambient air quality standards (NAAQS) includes six full counties and one partial county in North Carolina; and one partial county in South Carolina. Additionally, EPA is proposing to approve in part, and conditionally approve in part, several SIP revisions to address the volatile organic compounds (VOC) RACT requirements which include related control technology guidelines (CTG) requirements. Together, these SIP revisions establish the RACT requirements for sources located in the North Carolina portion of the bi-state Charlotte Area. In a separate rulemaking, EPA has already taken action on RACT and CTG requirements for the South Carolina portion of the bi-state Charlotte Area. EPA has evaluated the proposed revisions to North Carolina's SIP, and has made the preliminary determination that they are consistent, with the exception of applicability for some CTG VOC sources, with statutory and regulatory requirements and EPA guidance.

DATES: Comments must be received on or before April 12, 2013.

ADDRESSES: Submit your comments, identified by Docket ID No. EPA-R04-OAR-2009-0140 by one of the following methods:

1. www.regulations.gov: Follow the on-line instructions for submitting comments.

2. Email: R4-RDS@epa.gov.

3. Fax: (404) 562-9019.

4. Mail: “EPA-R04-OAR-2009-0140” Regulatory Development Section, Air Planning Branch, Air, Pesticides and Toxics Management Division, U.S. Environmental Protection Agency, Region 4, 61 Forsyth Street SW., Atlanta, Georgia 30303-8960.

5. Hand Delivery or Courier: Lynorae Benjamin, Chief, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 to 4:30, excluding federal holidays.

Instructions: Direct your comments to Docket ID No. “EPA-R04-OAR-2009-0140.” EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Jane Spann, Regulatory Development Section, Air Planning Branch, Air, Pesticides and Toxics Management Division, U.S. Environmental Protection Agency, Region 4, 61 Forsyth Street SW., Atlanta, Georgia 30303-8960. Ms. Spann may be reached by phone at (404) 562-9029, or via electronic mail at spann.jane@epa.gov.

SUPPLEMENTARY INFORMATION:

Table of Contents

I. Background

A. Statutory Requirements

B. Requirements for RACT Analysis for Major Sources

C. Regulatory Schedule for Implementing CTG

II. Analysis of the North Carolina's Submittals

A. Summary of North Carolina's SIP Submittals

B. RACT Analysis for Major Sources for NOX

C. EPA's Analyses of Individual Rule Amendments and Adoptions

III. Affect of this Proposed Action

IV. Proposed Action

V. Statutory and Executive Order Reviews

I. Background

On April 30, 2004, EPA designated the bi-state Charlotte Area as a moderate nonattainment area with respect to the 1997 8-hour ozone NAAQS.¹ See 69 FR 23858. The bi-state Charlotte Area includes six full counties and one partial county in North Carolina; and one partial county in South Carolina. The North Carolina portion of the bi-state Charlotte Area consists of Cabarrus, Gaston, Lincoln, Mecklenburg, Rowan, Union and a portion of Iredell County which includes Davidson and Coddle Creek Townships.² The South Carolina portion of the bi-state Charlotte Area consists of the portion of York County, South Carolina that falls within the Rock Hill-Fort Mill Area Transportation Study Metropolitan Planning Organization Area. As a result of this designation, North Carolina and South Carolina were required to amend their SIPs for their respective portions of the bi-state Charlotte Area to satisfy the requirements of section 182 of the Clean Air Act (CAA or Act). Today's action specifically addresses the North Carolina portion of the bi-state Charlotte Area. EPA approved the RACT requirements for the South Carolina portion of the bi-state Charlotte Area on November 28, 2011. See 76 FR 72844.

¹ Portions of the bi-state Charlotte Area were previously designated as a moderate nonattainment area for the 1-hour ozone NAAQS. The Area was subsequently redesignated to attainment for the 1-hour ozone NAAQS, and a maintenance plan was approved into the North Carolina SIP. The original Charlotte-Gastonia, North Carolina 1-hour moderate ozone nonattainment area consisted of Mecklenburg and Gaston counties in North Carolina.

² Effective July 20, 2012, EPA designated one full county and six partial counties in the bi-state Charlotte area as a marginal nonattainment area for the 2008 8-hour ozone NAAQS. Today's proposed actions regarding RACT are not related to requirements for the 2008 8-hour ozone NAAQS.

A. Statutory Requirements

Section 182(b)(2) of the CAA requires states to adopt RACT rules for all areas designated nonattainment for ozone and classified as moderate or above. The three parts of the section 182(b)(2) RACT requirements are: (1) RACT for sources covered by an existing CTG (i.e., a CTG issued prior to enactment of the 1990 amendments to the CAA); (2) RACT for sources covered by a post-enactment CTG; and (3) all major sources not covered by a CTG (i.e., non-CTG sources). Pursuant to 40 CFR 51.165, a major source for a moderate ozone area is a source that emits 100 tons per year (tpy) or more of VOC or NOX. See Section I. B. below for further information regarding major sources.

A CTG document is guidance issued by EPA which, as a result of CAA section 182(b)(2), triggers a responsibility for states to submit, as part of their SIPs, RACT rules for stationary sources of VOC that are covered by the CTG. EPA defines RACT as “the lowest emission limit that a particular source is capable of meeting by the application of control technology that is reasonably available considering technological and economic feasibility.” See 44 FR 53761, 53762 (September 17, 1979). Each CTG category includes a “presumptive norm” or “presumptive RACT” that EPA believes satisfies the definition of RACT.

If a state submits a RACT rule that is consistent with presumptive RACT, the state does not need to submit additional support to demonstrate that the rule meets the CAA's RACT requirement. However, if the state decides to submit an alternative emission limit or level of control for a source or source category for which there is a presumptive RACT, the state must submit independent documentation as to why the rule meets the statutory RACT requirement.

As mentioned above section 182(b)(2) of the CAA addresses moderate and above areas for the 1-hour ozone NAAQS. Further clarification of the RACT requirements for areas classified as moderate or above for the 1997 8-hour ozone NAAQS is provided in EPA's regulations.³ See 40 CFR 51.912.

³ On July 18, 1997, EPA promulgated a revised 8-hour ozone NAAQS of 0.08 parts per million—also referred to as the 1997 8-hour ozone NAAQS. On April 30, 2004, EPA designated areas as unclassifiable/attainment, nonattainment and unclassifiable for the 1997 8-hour ozone NAAQS. In addition, on April 30, 2004, as part of the framework to implement the 1997 8-hour ozone NAAQS, EPA promulgated an implementation rule in two phases (Phase I and II). The Phase I Rule (effective on June 15, 2004), provided the implementation requirements for designated areas under subpart 1 and subpart 2 of the CAA. See 69 FR 23951. EPA's Phase II Rule, finalized on November 29, 2005, addressed control and planning requirements as they applied to areas designated nonattainment for the 1997 8-hour ozone NAAQS such as RACT, reasonably available control measures (RACM), reasonable further progress, modeling and attainment demonstrations, new source review, and the impact to reformulated gas for the 1997 8-hour ozone NAAQS transition. See 70 FR 71612.

The CTG established by EPA are guidance to the states and only provide recommendations. A state can develop its own strategy for what constitutes RACT for the various CTG categories, and EPA will review that strategy in the context of the SIP process and determine whether it meets the RACT requirements of the CAA and its implementing regulations. If no major sources of VOC or NOX emissions (each pollutant should be considered separately) in a particular source category exist in an applicable nonattainment area, a state may submit a negative declaration for that category.

In addition, section 183(e) of the CAA directs EPA to: (1) List for regulation those categories of products that account for at least 80 percent of the VOC emissions, on a reactivity-adjusted basis, from consumer and commercial products in ozone nonattainment areas; and (2) divide the list of categories to be regulated into four groups. EPA published the initial list, following the 1990 CAA Amendments, in the Federal Register on March 23, 1995 (60 FR 15264), and has revised the list several times. See 71 FR 28320 (May 16, 2006), 70 FR 69759 (November 17, 2005), 64 FR 13422 (March 18, 1999), 63 FR 48792 (September 11, 1998). As authorized by CAA section 183(e)(3)(C), EPA chose to issue CTG in lieu of regulations for each listed product category. See 73 FR 58481 (October 7, 2008) (Group IV CTG); 72 FR 57215 (October 9, 2007) (Group III CTG); and 71 FR 58745 (October 5, 2006) (Group II CTG).

B. Requirements for RACT Analysis for Major Sources

Section 172(c)(1) of the CAA requires SIPs to provide for the implementation of all RACM as expeditiously as practicable. A subset of RACM is RACT, which relates specifically to stationary point sources. Section 182(b)(2) of the CAA requires RACT rules be adopted for all point sources of VOC and NOX with potential to emit at least 100 tpy or greater.⁴ ⁵

⁴ The potential to emit threshold is based on an area's nonattainment designation classification. Section 182 of the CAA and 40 CFR 51.912(b) define “major source” for ozone nonattainment areas to include sources which emit or which have the potential to emit 100 tpy or more of VOC or NOX (ozone precursors) in areas classified as “marginal” or “moderate,” 50 tpy or more of these ozone precursors in areas classified as “serious,” 25 tpy or more of these ozone precursors in areas classified as “severe,” and 10 tpy or more of these ozone precursors in areas classified as “extreme.” The bi-state Charlotte Area is a moderate nonattainment area.

⁵ Section 182(b)(2) also requires that all CTG source category sources, including those with less than 100 tpy emissions meet RACT. CTG sources are addressed later in this document.

C. Regulatory Schedule for Implementing CTG

CTG categories that were established in 1978 ultimately were required to be adopted by the states by 1990 (see schedule below for details). CAA section 182(b)(2) provides that a CTG issued after 1990 must specify the date by which a state must submit a SIP revision in response to the CTG. States were required to have the pre-1990 CAA CTG categories and post-1990 CAA CTG categories for applicable areas addressed in their SIPs according to the following schedule:

Group | Federal Register published | SIP Due
I | Pre-1990 CAA Amendment CTG | Pre-CAA Amendment CTG.
| As of January 1978 the first 15 CTG categories were established. Ten additional CTG categories were issued in 1978 (1 of those (vegetable oil) was rescinded) | The first 25 CTG categories were due to be adopted by the states by 1980. EPA initially approved most of these rules into the state SIPs. Subsequently, EPA reviewed these state rules to see if they were technically adequate and if they met national standards for national consistency. Based on this review, EPA issued the RACT fix-ups in 1987 (See general preamble (57 FR 13498, April 16, 1992)). In 1988, EPA published a technical document to address technical inadequacies found in these state adopted rules and to address minimum standards of national consistency. States were required to adopt revised rules by 1990. Congress established CTG statutory requirements in the 1990 CAA Amendments. Outstanding CTG requirements were due in 1992 (CAA Section 182(b)(2)(C)).
| Post 1990-CAA Amendment CTG The group of CTG established in 60 FR 15264, March 23, 1995, were broken into subsets called “Group I, II, III and IV” (some of these CTG are updates of previously established CTG)) | September 15, 2006 (40 CFR 51.912, RACT SIPs due for the 1997 8-hour ozone NAAQS).
II | 71 FR 58745, October 5, 2006 | October 5, 2007.
III | 72 FR 57215, October 9, 2007 | October 9, 2008.
IV | 73 FR 58481, October 7, 2008 | October 7, 2009.

II. Analysis of the North Carolina's Submittals

NC DENR submitted final SIP revisions on October 14, 2004, April 6, 2007, June 15, 2007, January 31, 2008, November 19, 2008, September 18, 2009, February 3, 2010, April 6, 2010, and November 9, 2010, to EPA for review and approval into the North Carolina SIP. North Carolina's SIP revisions include changes made by North Carolina to its Air Quality Rules, found at Chapter15A NCAC 02D, and include changes to NC DENR's NOX and VOC rules, including its NOX and VOC RACT requirements. A brief description of each North Carolina SIP revision submitted to meet NOX and VOC RACT requirements is provided in Section II. A. of this rulemaking. Section II. B. of this rulemaking provides EPA's analysis of how major sources for NOX in the Area meet RACT requirements. Section II. C. of this rulemaking provides EPA's analysis for the individual rules being changed by North Carolina to meet NOX and VOC RACT requirements.

Today, EPA is proposing to approve the portions of five of the aforementioned SIP revisions as they relate to RACT requirements for the North Carolina portion of the bi-state Charlotte Area (hereafter referred to as “the Area”).⁶ In addition to the SIP revisions, or portions of SIP revisions for which EPA is proposing approval, NC DENR submitted a letter on August 30, 2012, requesting that EPA conditionally approve portions of previously-submitted SIP revisions as they relate to VOC RACT and CTG requirements.7 8 Specifically, NC DENR committed to include appropriate applicability thresholds for VOC RACT for all sources addressed by CTG in the Area. A copy of NC DENR's letter is provided in the docket for today's rulemaking. Consequently, EPA is proposing to conditionally approve portions of five of the aforementioned SIP revisions as they relate to VOC RACT and CTG requirements for the Area. Comprehensively, these SIP revisions address NOX RACT, VOC RACT and CTG requirements for the Area.⁹

⁶ SIP revisions submitted on April 6, 2007, June 15, 2007, January 31, 2008, November 19, 2008, February 3, 2010, and April 6, 2010,

⁷ SIP revisions submitted on October 14, 2004, April 6, 2007, January 31, 2008, September 18, 2009, and November 9, 2010.

⁸ Additional information regarding the conditional approval is found in Section III of this action.

⁹ South Carolina met the RACT requirements for the South Carolina portion of the bi-state Charlotte Area.

A. Summary of North Carolina's SIP Submittals

a. October 14, 2004, SIP Submittal

On October 14, 2004, North Carolina submitted a SIP revision amending several rules. The VOC applicability Rule 15A NCAC 2D .0902, was amended to: (1) Specify what sources Rule .0902 does not apply to; (2) change the rule to address attainment for the 1-hour ozone NAAQS and nonattainment for the 8-hour ozone NAAQS; and (3) exclude emissions from startup or shutdown operations. Today, EPA is proposing to conditionally approve all changes to Rule 15A NCAC 2D .0902, with the exception of North Carolina's amendment to exclude emissions from startup or shutdown operations (15A NCAC 2D .0902 (b)(3)).¹⁰

¹⁰ In this action, EPA is not proposing to approve or disapprove any existing state provisions with regard to excess emissions during start up, shut down and malfunction (SSM) of operations at a facility. EPA believes that a number of states have SSM provisions which are contrary to the CAA and existing EPA guidance, “State Implementation Plans: Policy Regarding Excess Emissions During Malfunctions, Startup, and Shutdown” (September 20, 1999), and the Agency plans to address such state regulations in the future. In the meantime, EPA encourages any state having deficient SSM provisions to take steps to correct them as soon as possible.

Additionally, in the October 14, 2004, SIP revision, the rule which applies to petroleum liquid storage in external floating roof tanks, Rule 15A NCAC 2D .0933, was amended to clarify the seal requirements for external floating roof tanks. Today, EPA is proposing to approve all changes to Rule 15A NCAC 2D .0933 as provided in North Carolina's October 14, 2004, SIP revision.

The October 14, 2004, SIP revision, also amends NOX Rules 15A NCAC 2D .1404, 1409, .1416 through .1419 and .1422. Rule .1404, .1409, 1418 and .1422 were amended to clarify monitoring requirements, stationary internal combustion engine requirements, offsets for new electric generating units, large boilers and large internal combustion engines, and clarifying the use of compliance supplement pool credits, respectively. NC DENR requested approval of revisions to Rules .1416, .1417, and .1419 regarding emission allocations for utility companies and large combustion sources, and regarding nitrogen oxide budget trading program but subsequently repealed these rules and submitted them for approval on November 19, 2008. The November 19, 2008, request for approval of the repeals replaces the October 14, 2004, request for rule revision approval. Today, EPA is proposing to approve all changes to Rules .1404, .1409, .1418 and .1422 provided in North Carolina's October 14, 2004, SIP revision. The changes to Rules .1416, .1417 and .1419 are replaced by the November 19, 2008, submittal.

EPA is not taking action on any of the remaining rule changes in the October 14, 2004, SIP revision.¹¹ These remaining rule changes will be addressed in a separate action.

¹¹ The remaining rule changes that EPA is not acting on in this action include 15A NCAC 2D .0101, .0521, 15A NCAC 2Q .0806, .0809, 15A NCAC 2D .1901 through .1904 and .1906. These rules address Air Pollution Control Definitions, Emission Control Standards, Permitting Requirements and Open Burning and are not required to meet RACT for the 1997 8-hour ozone standard.

b. Summary of the April 6, 2007, SIP Submittal

On April 6, 2007, North Carolina submitted a SIP revision to address RACT and meet the EPA requirements for a full SIP revision for the bi-state Charlotte Area ozone nonattainment area to address the 1997 8-hour ozone NAAQS. Specifically, the VOC applicability rule, 15A NCAC 02D .0902, and NOX applicability rule 15A NCAC 02D .1402, were amended to require facilities with the potential to emit 100 tpy or more of VOC or NOX to comply with RACT requirements for VOC or NOX in the bi-state Charlotte nonattainment area for the 1997 8-hour ozone NAAQS. The VOC Compliance Schedule Rule 15A NCAC 02D .0909, and the NOX Compliance Schedule Rule 15A NCAC 02D .1403, added compliance schedules for the facilities to comply with RACT requirements. Today, EPA is proposing to approve all changes to rules 15A NCAC 02D .1402, and .1403, and is proposing to conditionally approve all changes to rules 15A NCAC 02D .0902 and .0909, that were included as part of the April 6, 2007, SIP revision.

c. Summary of the June 15, 2007, SIP Submittals

The June 15, 2007, SIP revisions consisted of the attainment demonstration, reasonable further progress (RFP) and the RACT submissions related to the 1997 8-hour ozone NAAQS for the Area. On December 19, 2008, North Carolina withdrew its attainment demonstration that the NC DENR submitted on June 15, 2007. However, North Carolina did not withdraw its submissions for RFP or RACT. See 74 FR 21550 (May 9, 2009). In a previous action, EPA approved North Carolina's RFP SIP revision. See 77 FR 62159 (October 12, 2012). As a result, today's action only addresses North Carolina's RACT SIP for its portion of the bi-state Charlotte Area. EPA has made the preliminary determination that North Carolina's June 15, 2007, SIP revision, in combination with others addressed in this rulemaking and previous rulemakings,¹² meets RACT requirements, and thus EPA is proposing to approve North Carolina's June 15, 2007, RACT SIP revision.

¹² While North Carolina's June 15, 2007, submission references VOC rules 15A NCAC 2D .0901 through .0960, and NOX rules 15A NCAC 2D .1402 through .1412, and 15A NCAC 2D .1415 through .1422, the SIP revision did not provide amendments to these rules for EPA approval. However, in its June 15, 2007, SIP revision North Carolina is using these previously approved rules as demonstration that they meet RACT requirements.

d. Summary of the January 31, 2008, SIP Submittal ¹³

¹³ The January 31, 2008, SIP revision also amended Rule 15A NCAC 02Q .0207, “Annual Emissions Reporting.” In an action taken on April 24, 2012, (77 FR 24382), EPA approved these revisions to Rule 15A NCAC 02Q .0207.

On January 31, 2008, North Carolina submitted a SIP revision to address certain RACT requirements, and meet the EPA requirements for a full SIP revision for the bi-state Charlotte Area ozone nonattainment area to address the 1997 8-hour ozone NAAQS. Specifically, the VOC Applicability Rule 15A NCAC 02D .0902 was amended to cover facilities with the potential to emit between 50 and 100 tons of VOC per year in Cabarrus, Gaston, Lincoln, Mecklenburg, Rowan, and Union Counties and Davidson and Coddle Creek Townships in Iredell County. Additionally, North Carolina's NOX Applicability Rule 15A NCAC 02D .1402, was amended to describe the actions to be taken at facilities with the potential to emit between 50 and 100 tons of NOX per year.

At the time that the rules in North Carolina's January 31, 2008, SIP revision were changed and submitted to EPA, the bi-state Charlotte Area had not yet attained the 1997 8-hour ozone NAAQS, and there was a possibility that EPA would have to reclassify the bi-state Charlotte Area to a serious nonattainment area. North Carolina revised these rules as a contingency for the bi-state Charlotte Area should this area be reclassified from a “moderate” nonattainment area to a “serious” nonattainment for the 1997 8-hour ozone NAAQS.¹⁴ The bi-state Charlotte Area subsequently attained the standard, and is currently a moderate nonattainment area. The VOC Compliance Schedule Rule 15A NCAC 02D .0909, and NOX Compliance Schedule Rule 15A NCAC 02D. 1403 added compliance schedules for the facilities to comply with RACT requirements should the bi-state Charlotte Area fail to attain and as a result was reclassified as serious area.

¹⁴ As provided for in the CAA, on May 31, 2011, North Carolina was granted a 1 year extension of the attainment date (See 76 FR 31245), attained the standard prior to the extended attainment date, was not reclassified to serious and continued to be a moderate area.

EPA is now proposing to conditionally approve changes to VOC Applicability Rule 15A NCAC 02D .0902, and VOC Compliance Schedule Rule 15A NCAC 02D .0909. Additionally EPA is proposing to approve the remaining changes included in North Carolina's January 31, 2008, SIP revision regarding NOX Applicability Rule 15A NCAC 02D .1402, and NOX Compliance Schedule Rule 15A NCAC 02D .1403.

e. Summary of the November 19, 2008, SIP Submittal

On November 19, 2008, North Carolina submitted a SIP revision to address adoption of a new rule section (Section 15A NCAC 02D .2600) that consolidated North Carolina's protocols with federal air source testing methods from many rules located throughout North Carolina air rules. Rule amendments to or repeals of Rules 15A NCAC 02D .0901, .0912 through .0916, .0932, .0939 through .0943, .0945 were also made to cross-reference or be replaced by the new rule section 15A NCAC 02D .2600. North Carolina's November 19, 2008, SIP revision also amends Rule 15A NCAC 02D .1402 to remove reference to repealed NOX SIP Call Rules and Rules 15A NCAC 02D .1407 through .1412, and .1415 through .1422.¹⁵

¹⁵ These rules are repealed because CAIR replaced the NOX Budget Trading Program for North Carolina.

EPA is proposing to approve changes to Rules 15A NCAC 02D .0901, .0912, .0932, .0943, .0945, .1402, and .1415. EPA is proposing to approve the repeal of Rules 15A NCAC 02D .0913 through .0916, .0939 through .0942, and .1416 through .1422 as these provisions are no longer necessary for North Carolina's SIP. EPA is not taking action on any of the remaining rule changes in the November 19, 2008, SIP revision.¹⁶

¹⁶ The remaining rule changes that EPA is not acting on in this action include 15A NCAC 02D .0501, .0529, .0535, .0536, .0542, .0606, .0608, NCAC 2D .2609, .2610, .2611, .2616, .2617, .2618, .2619, .2620, NCAC 02D .1110, .1203 through .1206, .1208, .1210, and 15A NCAC 02Q .0508, .0523, .0711, and .0902. These rules address Emission Control Standards, Monitoring and Recordkeeping, Source Testing unrelated to Ozone, Toxics, Incinerators, and Permitting, and are not required to meet RACT for the 1997 8-hour ozone standard. (While Rules NCAC 2D 1104 and NCAC 2Q .0903 were listed in the submittal, North Carolina requested they not be approved into the SIP).

f. Summary of the September 18, 2009, SIP Submittal ¹⁷

¹⁷ In a letter dated November 30, 2012, North Carolina withdrew its request for EPA to approve Rule 15A NCAC 02D .0952, Petitions for Alternative Controls for RACT into the SIP.

On September 18, 2009, North Carolina submitted a SIP revision to address certain RACT requirements. First, the VOC definitions Rule 15A NCAC 02D .0901 was amended to include the definition of Stage I vapor control. Second, the VOC Applicability Rule, 15A NCAC 02D .0902, was amended to remove a subparagraph that refers to Rule 15A NCAC 02D .0953, “Vapor Return Piping for Stage II Vapor Recovery,” as this provision was repealed by the State. Third, the VOC Compliance Schedule Rule, 15A NCAC 02D .0909, was amended to remove reference to Stage II vapor recovery at Rules 15A NCAC 02D .0953, “Vapor Return Piping for Stage II Vapor Recovery,” and 15A NCAC 02D .0954, “Stage II Vapor Recovery,” as these provisions were repealed by the State.¹⁸ Fourth, the “Petition for Alternative Controls for RACT,” Rule 15A NCAC 02D .0952, was amended to remove reference to Stage II vapor recovery at Rules 15A NCAC 02D .0953 and .0954 as these provisions were repealed by the State.

¹⁸ North Carolina also included a repeal of Rule 15A NCAC 02D .0953, “Vapor Return Piping for Stage II Vapor Recovery,” and Rule .0954, “Stage II Vapor Recovery” in its November 18, 2010, SIP revision. These rules are not required for RACT. EPA will address North Carolina's November 18, 2010, SIP revision as it pertains to the repeal of these rules in a separate action.

EPA is proposing to conditionally approve the changes in the September 18, 2009, SIP revision related to Rules 15A NCAC 02D .0902 and .0909. Additionally, EPA is proposing to approve the changes to Rules 15A NCAC 02D .0901 and .0952, as provided in North Carolina's September 18, 2009, SIP revision. EPA is not taking action on any of the remaining rule changes in the September 18, 2009, SIP revision.¹⁹ These remaining rule changes will be addressed in a separate action.

¹⁹ The remaining rule changes that EPA is not acting on in this action include 15A NCAC 2D, .0521, .0614, NCAC 2Q .0102, .0304, and .0902. These rules address Air Pollution Control, Emission Control Standards, Monitoring and Recordkeeping and Air Quality Permit Procedures and are not required to meet RACT for the 1997 8-hour ozone standard.

g. Summary of the February 3, 2010, SIP Submittal

On February 3, 2010, North Carolina submitted a SIP revision to address a number of different rule amendments including a change to the NOx applicability Rule 15A NCAC 02D .1402. Rule .1402 was amended to: (1) Add language to clarify which parts of Rule Section .1400 apply to sources covered under Clean Air Interstate Rules (CAIR), which replaced the NOx Budget Trading Program for North Carolina; (2) clarify RACT requirements in nonattainment areas; and (3) correct cross-reference errors.

EPA is proposing to approve North Carolina's changes to Rule .1402, as provided in the February 3, 2010, SIP revision. This is the only rule amendment in North Carolina's February 3, 2010, SIP revision being addressed in today's action. The remaining rule changes will be addressed in a separate action.²⁰

²⁰ The remaining rule changes that EPA is not acting on in this action include 15A NCAC 02D, .0405, .0408 .0409, and .0410. These rules address Ambient Air Quality Standards and are not required to meet RACT for the 1997 8-hour ozone standard.

h. Summary of the April 6, 2010, SIP Submittal

On April 6, 2010, North Carolina submitted a SIP revision to address RACT, specifically to make a negative declaration for the following four CTG categories: (1) Control of Volatile Organic Compound Leaks from Petroleum refinery Equipment (EPA-450/2-78-036, 1978/06); (2) Control of Refinery Vacuum Producing Systems, Wastewater Separators, and Process Unit turnarounds (EPA-450/2-77-026, 1977/10); (3) Control of Volatile Organic Compound Equipment Leaks from Natural Gas/Gasoline Processing Plants (EPA-450/3-83-007, 1983/12); and (4) Control Techniques Guidelines, for Shipbuilding and Ship Repair Operations (Surface Coating) (61 FR-44050 8/27/96, 1996/08).

As part of its analysis to support the negative declarations for aforementioned CTG source categories, NC DENR reviewed its permits files and emissions inventory information. After this review, NC DENR determined that there are no stationary sources or emitting facilities located in its portion of the bi-state Charlotte Area that are subject to aforementioned CTG source categories. EPA is now proposing to approve the negative declarations as provided in North Carolina's April 6, 2010, SIP revision.

i. Summary of the November 9, 2010, SIP Submittal ²¹

²¹ In a letter dated November 30, 2012, North Carolina withdrew its request for EPA to approve Rule 15A NCAC 02D .0952, “Petitions for Alternative Controls for RACT” into the SIP.

On November 9, 2010, North Carolina submitted a SIP revision amending, adopting, and repealing various RACT rules. First, Rule 15A NCAC 02D .0902, VOC Applicability was amended to extend the work practice standards in Rule 15A NCAC 02D .0958 to all sources of VOC in the State, and to clarify that all areas that become subject to the VOC RACT rules shall continue to comply with those rules after the Area is redesignated to attainment. Second, Rule 15A NCAC 02Q .0306, “Permits Requiring Public Participation;” Rule 15A NCAC 02D .0909, “Compliance Schedules for Sources in Nonattainment Areas;” Rule 15A NCAC 02D .0951, “Metal Furniture Coatings Rule;” and 15A NCAC 02D .0952 “Petition for Alternative controls for RACT” were amended to change cross-references.

Third, Rule 15A NCAC 02D .0922, “Metal Furniture Coatings” was amended to control VOC emissions from metal furniture coatings by establishing three alternatives. Fourth, Rule 15A NCAC 02D .0923, “Surface Coating of Large Appliance Parts” was amended to control VOC emissions from large appliance coatings by establishing three alternatives. Fifth, Rule 15A NCAC 02D .0935, “Factory Surface Coating of Flat Wood Paneling” was amended to establish new emission limits for inks, coatings and adhesives used by the flat wood paneling coating facilities.

Sixth, Rule 15A NCAC 02D .0961, “Offset Lithographic Printing and Letterpress Printing” was adopted to control VOC emissions from heatset inks, fountain solution and cleaning materials used in offset lithographic printing operations, as well as VOC emissions from heatset inks used in letterpress printing operations at the level sufficient for RACT requirements. Seventh, Rule 15A NCAC 02D .0962, “Industrial Cleaning Solvents” was adopted to define measures for controlling emissions of VOC from the use, storage, and disposal of industrial cleaning solvents. Eighth, Rule 15A NCAC 02D .0963, “Fiberglass Boat Manufacturing” was adopted to control VOC emissions from open molding resin and gel coat operations (pigmented gel coat, clear gel coat, production resin, tooling gel coat, and tooling resin); resin and gel coat mixing operations; and resin and gel coat application equipment cleaning operations at the level sufficient for RACT requirements. Ninth, Rule 15A NCAC 02D .0964, “Miscellaneous Industrial Adhesives” was adopted to control VOC emissions from miscellaneous industrial adhesives; it establishes VOC emission limits based on application processes (general adhesive application processes, specialty adhesive application processes and adhesive primer application processes.)

Tenth, Rule 15A NCAC 02D .0965, “Flexible Package Printing” was adopted to provide equivalent VOC content limits, which can be met by use of low VOC content materials or combinations of materials and controls. Eleventh, Rule 15A NCAC 02D .0966, “Paper, Film and Foil Coatings” was adopted to establish an overall VOC control efficiency of 90 percent for each coating line along with emission limits that are equivalent to 90 percent overall control. Twelfth, Rule 15A NCAC 02D .0967, “Miscellaneous Metal and Plastic Parts Coatings” was adopted to control VOC emissions from miscellaneous metal and plastic part surface coatings. Finally, Rule 15A NCAC 02D .0968, “Automobile and Light-Duty Truck Assembly Coatings” was adopted to establish VOC emission limits based on application processes (general adhesive application processes, specialty adhesive application processes, and adhesive primer application processes).

Additionally, in the November 9, 2010, SIP revision, North Carolina repealed Rules 15A NCAC 02D .0917, “Automobile and Light-duty Truck Manufacturing;” 15A NCAC 02D .0920 “Paper Coating;” 15A NCAC 02D .0921, “Fabric and Vinyl Coating;” 15A NCAC 02D .0934, “Coating of Miscellaneous Metal Parts and Products;” and 15A NCAC 02D .0936, “Graphic Art” because North Carolina adopted new rules to address all of these categories.

EPA is proposing to conditionally approve the changes to Rules 15A NCAC 02D .0902, .0909, .0951, .0961 and .0962. Also, EPA is proposing to approve the changes to Rules 15A NCAC 02D .0922, .0923, .0935, .0952, .0963 through .0968, and 15A NCAC 02Q .0306. Further EPA is proposing to approve the repeal of Rules 15A NCAC 02D .0917, “Automobile and Light-duty Truck Manufacturing;” 15A NCAC 02D .0920, “Paper Coating;” 15A NCAC 02D .0921, “Fabric and Vinyl Coating;” 15A NCAC 02D .0934, “Coating of Miscellaneous Metal Parts and Products;” and 15A NCAC 02D .0936, “Graphic Art.” The remaining rule changes in the November 9, 2010, SIP revision will be addressed in a separate action.²²

²² The remaining rule changes that EPA is not acting on in this action include NCAC 2Q, .0306. This rule addresses permit requirements and is not required to meet RACT for the 1997 8-hour ozone standard.

B. RACT Analysis for Major Sources for NOx

In the mid 1990s, North Carolina's Division of Air Quality completed a technical analysis and determined that the entire state is NOx limited ²³ and that the control program for reducing ozone should therefore be focused on NOx emission reductions. Consistent with this finding, North Carolina pursued a number of regulatory efforts to reduce NOx statewide, several of which were directed at Electricity Generating Unit (EGU) emissions. Specifically, NC DENR adopted measures to comply with the NOx SIP Call rule and the General Assembly passed the Clean Smokestacks Act (CSA). In addition NC DENR adopted rules to implement CAIR. These programs, which are described further below, substantially lowered NOx emissions in the bi-state Charlotte Area.

²³ NOx and VOC are precursors to ozone. NOx limited is a term that describes an area in which naturally occurring VOCs are so high that a reduction of manmade VOC does not measurably reduce ozone. Therefore, a focus is placed on NOx reductions instead of a combination of NOx and VOC reduction.

In October 1998, EPA made a finding of significant contribution of NOx emissions from certain states and published a rule that set ozone season NOx budgets for the purpose of reducing regional transport of ozone (63 FR 57356). This rule, referred to as the NOx SIP Call rule, called for, among other things, ozone season controls to be put on utility and industrial boilers, as well as internal combustion engines in 22 states in the Eastern United States. As noted above, in October 2000, the North Carolina Environmental Management Commission adopted similar rules requiring these reductions. When the North Carolina's NOx SIP Call rule ²⁴ was adopted NC DENR concluded that the NOx SIP Call would reduce summertime NOx emissions from power plants and other industries by 68 percent by 2006. As part of the rulemaking and consistent with EPA guidance, the North Carolina Environmental Management Commission established a NOx trading program, allowing sources to buy credits to meet their NOx budget as opposed to actually installing controls. The emission budgets were to be met by the beginning of 2004.

²⁴ This was federally approved into the SIP. See 67 FR 78987, December 27, 2002.

As mentioned above, in June 2002, the North Carolina General Assembly enacted the CSA.²⁵ CSA reduces NOx emissions beyond the requirements of the NOx SIP Call rule and required coal-fired power plants to reduce annual NOx emissions by 78 percent by 2009.

²⁵ This was federally-approved into the SIP on September 26, 2011. See 76 FR 59250.

In response to the EPA's CAIR, the NC DENR developed a state version of CAIR. Under EPA's rule, North Carolina is distributed a statewide budget for NOX. These NOX allowances, in turn, have been allocated to the affected facilities in North Carolina by the NC DENR. For the most part, the rules incorporate EPA's model rule. NC DENR adopted North Carolina's CAIR on March 9, 2006, and the rule became effective July 1, 2006.

On November 29, 2005 (70 FR 71612), EPA published an ozone implementation rule to address nonattainment SIP requirements for the 1997 8-hour ozone NAAQS (the “Phase 2 Ozone Implementation Rule”). The Phase 2 Ozone Implementation Rule addressed various statutory requirements, including the requirement for RACT level controls for sources located within nonattainment areas generally, and controls for NOX emissions from EGUs in particular. Through the Phase 2 Ozone Implementation Rule, EPA also provided its determination that the regional NOX emissions reductions that result from either the NOX SIP Call or CAIR would meet the NOX RACT requirement for EGUs located in states included within the respective NOX SIP Call or the CAIR geographic regions. Thus, EPA concluded that: “[t]he State need not perform a NOX RACT analysis for sources subject to the State's emission cap-and-trade program where the cap-and-trade program has been adopted by the State and approved by EPA as meeting the NOX SIP Call requirements or, in States achieving the CAIR reductions solely from electric generating units (EGUs), the CAIR NOX requirements.”²⁶ Based on the then existing EPA guidance, NC DENR concluded that the NOX SIP Call rule, the CSA, and CAIR, in aggregate, sufficiently addressed the implementation of RACT for point sources.

²⁶ See Phase 2 Ozone Implementation Rule, 70 FR 71617.

In November 2008, several parties challenged EPA's Phase 2 Ozone Implementation Rule. In particular, they challenged EPA's determination that compliance with the NOX SIP Call and/or CAIR could satisfy NOX RACT requirements for EGUs in nonattainment areas and EPA's determination that compliance with CAIR could satisfy NOX RACT for EGUs in ozone nonattainment areas. As a result of this litigation, the court decided that the provisions in the Phase 2 Ozone Implementation Rule providing that a state need not perform (or submit) a NOX RACT analysis for EGU sources subject to a cap-and-trade program that meets the requirements of the NOX SIP Call were inconsistent with the statutory requirements of section 172(c)(1).²⁷ The court specifically held that the Phase 2 Ozone Implementation Rule allowing use of the NOX SIP call to constitute RACT without any locally applicable analysis regarding the equivalence of NOX SIP Call and RACT reductions: “Is inconsistent with the Clean Air Act * * * in allowing participation in a regional cap-and-trade program to satisfy an area-specific statutory mandate.” The court emphasized that: “The RACT requirement calls for reductions in emissions from sources in the area * * * [and that] reductions from sources outside the nonattainment area do not satisfy the requirement * * * [a]ccordingly, participation in the NOX SIP call would constitute RACT only if participation entailed at least RACT-level reductions in emissions from sources within the nonattainment area.” In view of its decision in North Carolina v. EPA, in which the Court had previously remanded CAIR, the court deferred consideration of the litigant's challenge to the Phase 2 Ozone Implementation Rule insofar as they related to the CAIR program. In light of the above, as well as a 2007 petition for reconsideration that EPA granted on this issue as it pertains to CAIR,²⁸ EPA is proposing in this action to not approve the presumption or determination that CAIR or the NOX SIP Call constitutes RACT for EGU sources in the Area. However, after evaluating controls at individual point sources, EPA has determined that the point sources in the area have implemented RACT. This analysis is included below.

²⁷ See NRDC v. EPA, 571 F.3d 1245 (DC Cir. 2009).

²⁸ See Earthjustice Petition for Reconsideration of the Clean Air Fine Particle Rule, June 25, 2007. See also April 25, 2011, letter from EPA Administrator Lisa P. Jackson to Paul Cort, Earthjustice, responding to the June 25, 2007, petition for reconsideration.

NC DENR identified six facilities in the North Carolina portion of the bi-state Charlotte Area that are or were major sources of NOX. Table 1 summarizes their emissions in 2003 and in 2011. NOX controls installed on these facilities have resulted in an average of 69 percent reduction across the bi-state Charlotte Area.

Table 1—NOX Point Sources in the Bi-State Charlotte Area
EGU | 2003 Annual NOX (tons) | 2011 Annual NOX (tons) | NOX Control
Duke Energy Buck Steam Station | 3,104 | 646 | Three boilers with separated overfire air (SOFA) and two boilers with SOFA and selective non-catalytic reduction (SNCR) NOX control systems. Shut down Scheduled by 2015. Useful life would preclude installing any additional controls.
Rowan County Power | 67 | 127 | Gas unit limits are 0.045 lb/million British thermal units (MMBtu) and 0.01 lb/MMBtu. Oil unit limits are 0.176 lb/MMBtu for units 1-3 and 0.054 lb/MMBtu for units 5 and 6. The facility predominately uses gas but has some oil start up. Meets Best Available Control Technology (BACT). (Title V Permit 08758T11).
Duke Energy Lincoln | 68 | 87 | Water injection, Meets New Source Performance Standards (NSPS) Subpart GG, Meets BACT (Title V Permit 07171T09).
Duke Energy Riverbend | 5,508 | 1,106 | SOFA and SNCR Shut down Scheduled by 2015. Useful life would preclude installing any additional controls
Duke Energy G.G. Allen Plant | 10,992 | 4,401 | SNCR on Units 2&4; Lowered Fire Incremental Respacing (LOFIR) low NOX burner System, with Closed-coupled/Separated OFA on units 1,3, & 5. Meets RACT.
Kannapolis Energy Partners | 946 | 0 | No longer in operation
Total | 20,685 | 6,367 |

Three of the facilities, Duke Energy Buck Steam Station, and Duke Energy Riverbend and Kannapolis Energy Partners have shut down or plan to shut down by 2015. Kannapolis Energy Partners is no longer in operation. Duke Buck and Riverbend are shutting down these units pursuant to conditions in state issued prevention of significant deterioration permits and in order to comply with the provisions of North Carolina's CSA. Because of the time necessary to install additional controls and the limited remaining useful life between now and 2015 for the two operating facilities (Duke Energy Buck Steam Station, and Duke Energy Riverbend), a cost effectiveness analysis based on one or two years of operation would preclude any additional controls from being considered RACT.

Two of the facilities, Rowan County Power and Duke Energy Lincoln, have been through a BACT analysis and the controls adopted for BACT are consistent with or more stringent than those that would be required for RACT. Duke's G.G. Allen Plant has installed SNCR on two units and a two-tiered LOFIR combustion controls on the remaining three units to achieve NOx emissions reductions beyond those normally achieved from Low NOX burners at Duke's G.G. Allen Plant.

In aggregate, after the planned shutdowns occur, the bi-state Charlotte Area will have reduced NOX emissions by 77 percent from 2003 NOX emission levels. Because each of the units has installed NOX controls to meet BACT requirements, or to comply with existing source NOX requirements such as CAIR, the NOX SIP call rule or CSA requirements or is scheduled to be shutdown, EPA has concluded that the reductions in place at these facilities in the bi-state Charlotte Area have resulted, in aggregate, in at least RACT-level reductions in the bi-state Charlotte Area. Thus, EPA is now taking action to approve North Carolina's rule revisions as meeting NOX RACT requirements for the bi-state Charlotte Area.²⁹

²⁹ These rule revisions are included as portions of the following submittals: April 6, 2007, June 15, 2007, January 31, 2008, November 19, 2008 and February 3, 2010.

C. EPA's Analyses of Individual Rule Amendments and Adoptions

This section will provide a rule by rule analysis of the rules submitted in the SIP revisions. North Carolina's rule 15A NCAC 02D .0900 addresses VOC; Rule 15A NCAC 02D .1400 addresses NOX; and Rule 15A NCAC 02D .2600 addresses Source Testing. Below summarizes the specifics of each rule and EPA's analyses for these rule changes.

a. CTG Rules

1. Rule 15A NCAC 02D .0915, “Determination of Solvent Metal Cleaning VOC Emissions”

On October 5, 2006 (71 FR 58745), as part of the Group II CTG, EPA updated the portion of the 1977 Solvent Metal Cleaning CTG regarding the control of VOC emissions from the use of industrial cleaning solvents. North Carolina originally adopted this rule in 1979, amended it November 1, 1984, and submitted it to EPA for approval on November 8, 1984. EPA approved it into the federally-approved SIP on December 19, 1986, (51 FR 45468). The state rule was amended numerous times after that. Rule 15A NCAC 02D .0915 was referenced in the appendix of the June 15, 2007, SIP revision but no rule change was made at that time.

On June 1, 2008, North Carolina repealed this rule, and replaced it with existing Rule 15A NCAC 02D .0930, “Solvent Metal Cleaning;” and requirements found in Rule 15A NCAC 02D .2613. In a SIP revision on November 19, 2008, North Carolina submitted this repeal to EPA for approval. Today, EPA is taking action to propose approval of the June 15, 2007, SIP revision as it relates to RACT, and to approve the repeal of Rule 15A NCAC 02D .0915, as submitted in North Carolina's November 19, 2008, SIP revision. EPA is also proposing to approve submittals that include Rules 15A NCAC 02D .0930, and .2613. Below provides more details regarding EPA's proposed approval of Rules 15A NCAC 02D .0930, and .2613.

2. Rule 15A NCAC 02D .0916, “Determination: VOC Emissions From Bulk Gasoline Terminals”

In 1977, EPA established a CTG addressing the control of VOC emissions from bulk gasoline plants. North Carolina originally adopted this rule in 1979, amended it November 1, 1984, and submitted it to EPA for approval on November 8, 1984. EPA approved it into the federally-approved SIP on December 19, 1986, (51 FR 45468). The state rule was amended numerous times after that. Rule 15A NCAC 02D .0916 was referenced in the appendix of the June 15, 2007, SIP revision but no rule change was made at that time.

On June 1, 2008, North Carolina repealed this rule and replaced it with Rule 15A NCAC 02D .0927, “Solvent Metal Cleaning;” and requirements found in Rule 15A NCAC 02D .2613. In a SIP revision on November 19, 2008, North Carolina submitted this repeal to EPA for approval. Today, EPA is taking action to propose approval of the June 15, 2007, SIP revision as it relates to RACT, and to approve the repeal of Rule 15A NCAC 02D .0916, as submitted in North Carolina's November 19, 2008, SIP revision. EPA is also proposing to approve Rules 15A NCAC 02D .0927, and .2613. Below provides more details regarding EPA's proposed approval of Rules 15A NCAC 02D .0927, and .2613.

3. Rule 15A NCAC 02D .0917, “Automobile and Light Duty Truck Manufacturing”

In May 1977, EPA issued a CTG document (1977 CTG) for controlling VOC emissions from surface coating of automobiles and light-duty trucks. On October 7, 2008 (73 FR 58481), EPA updated the 1977 CTG, as part of Group IV CTG, addressing the control of VOC emissions from automobile and light-duty truck manufacturing.

North Carolina originally adopted this rule in 1979, amended it a number of times and submitted it to EPA for approval on April 17, 1990. EPA approved it into the federally-approved SIP on July 21, 1994, (59 FR 37162). The rule was amended numerous times after that and submitted to EPA for SIP approval on July 1, 1996. EPA approved these amendments into the federally-approved SIP on August 1, 1997, (62 FR 41277). Rule 15A NCAC 02D .0917 was referenced in the appendix of the June 15, 2007, SIP revision but no rule change was made at that time.

On September 1, 2010, North Carolina repealed this rule and replaced it with Rule 15A NCAC 02D .0968, “Automobile and Light Duty Truck Assembly Coatings.” In a SIP revision on November 9, 2010, North Carolina submitted this repeal to EPA for approval. Today, EPA is taking action to propose approval of the June 15, 2007, SIP revision as it relates to RACT, and to approve the repeal of Rule 15A NCAC 02D .0917, as submitted in North Carolina's November 9, 2010, SIP revision. EPA is also proposing to approve Rule .0968. A detailed rationale is provided below regarding EPA's proposed approval of Rule .0968.

4. Rule 15A NCAC 02D .0920, “Paper Coatings”

In May 1977, EPA established a CTG addressing the control of VOC emissions from paper coating operations. On October 9, 2007 (73 FR 57215), EPA updated the 1977 CTG, as part of Group III CTG, addressing the control of VOC emissions from paper, film and foil coating operations. North Carolina originally adopted this rule in 1979, amended it a number of times and submitted it to EPA for approval on April 17, 1990. EPA approved it into the federally-approved SIP on July 21, 1994, (59 FR 37162). The rule was amended again and submitted to EPA for SIP approval on August 16, 1996. EPA approved these amendments into the federally-approved SIP on August 1, 1997, (62 FR 41277). Rule .0920 was referenced in the appendix of the June 15, 2007, SIP revision but no rule change was made at that time.

On September 1, 2010, North Carolina repealed this rule and replaced it with Rule 15A NCAC 02D .0966, “Paper Film and Foil Coatings.” In a SIP revision on November 9, 2010, North Carolina submitted this repeal to EPA for approval. Today, EPA is taking action to propose approval of the June 15, 2007, SIP revision as it relates to RACT, and to approve the repeal of Rule .0920, as submitted in North Carolina's November 9, 2010, SIP revision. EPA is also proposing to approve Rule .0966. A detailed rationale is provided below regarding EPA's proposed approval of Rule .0966.

5. Rule 15A NCAC 02D .0921, “Fabric and Vinyl Coating”

In May 1977, EPA established a CTG addressing the control of VOC emissions from fabric and vinyl coating operations. North Carolina originally adopted this rule in 1979, amended it a couple of times and submitted it to EPA for approval on April 17, 1990. EPA approved it into the federally-approved SIP on July 21, 1994, (59 FR 37162). The rule was amended again and submitted to EPA for SIP approval on August 16, 1996. EPA approved these amendments into the federally-approved SIP on August 1, 1997, (62 FR 41277). Rule .0921 was referenced in the appendix of the June 15, 2007, SIP revision but no rule change was made at that time.

On September 1, 2010, North Carolina repealed this rule and replaced it with Rule 15A NCAC 02D .0965, “Flexible Package Printing.” In a SIP revision on November 9, 2010, North Carolina submitted this repeal to EPA for approval. Today, EPA is taking action to propose approval of the June 15, 2007, SIP revision as it relates to RACT, and to approve the repeal of Rule .0921, as submitted in North Carolina's November 9, 2010, SIP revision. EPA is also proposing to approve Rule .0965. A detailed rationale is provided below regarding EPA's proposed approval of Rule .0965.

6. Rule 15A NCAC 02D .0922, “Metal Furniture Coating”

In June 1978, EPA established a CTG addressing the control of VOC emissions from Metal Furniture Coating. On October 9, 2007 (73 FR 57215), EPA updated the 1978 CTG, as part of Group III CTG, addressing control of VOC emissions from metal furniture coating operations. North Carolina originally adopted this rule in 1979, amended it a couple of times and submitted it to EPA for approval on April 17, 1990. EPA approved it into the federally-approved SIP on July 21, 1994, (59 FR 37162). The rule was amended again and submitted to EPA for SIP approval on August 16, 1996. EPA approved these amendments into the federally-approved SIP on August 1, 1997, (62 FR 41277). Rule .0922 was referenced in the appendix of the June 15, 2007, SIP revision but no rule change was made at that time.

Changes to this rule were state-effective September 1, 2010, and submitted in a SIP revision on November 9, 2010, for EPA approval. The rule was amended to control VOC emissions from metal furniture coatings by establishing three alternatives. EPA has evaluated North Carolina's changes and is proposing to approve into the SIP the June 15, 2007, SIP revision as it relates to RACT, and North Carolina's November 9, 2010, SIP revision as it relates to metal furniture coating.

7. Rule 15A NCAC 02D .0923, “Surface Coating of Large Appliance Parts”

In May 1977, EPA established a CTG addressing the control of VOC emissions from large appliance surface coating operations. On October 9, 2007 (73 FR 57215), EPA updated the 1977 CTG, as part of Group III CTG, addressing the control of VOC emissions from large appliance surface coating operations. North Carolina originally adopted this rule in 1979, amended it a couple of times and submitted it to EPA for approval on April 17, 1990. EPA approved it into the federally-approved SIP on July 21, 1994, (59 FR 37162). The rule was amended again and submitted to EPA for SIP approval on August 16, 1996. EPA approved these amendments into the federally-approved SIP on August 1, 1997, (62 FR 41277). Rule .0923 was referenced in the appendix of the June 15, 2007, SIP revision but no rule change was made at that time.

Changes to this rule were state-effective September 1, 2010, and submitted in a SIP revision on November 9, 2010, for EPA approval. The rule was amended to control VOC emissions from large appliance coatings by establishing three alternatives. EPA has evaluated North Carolina's changes and is proposing to approve into the SIP the June 15, 2007, SIP revision as it relates to RACT, and North Carolina's November 9, 2010, SIP revision as it relates to large appliance coatings.

8. Rule 15A NCAC 02D .0929, “Petroleum Refinery Sources”

In 1978, EPA established a CTG addressing the control of VOC emissions from bulk gasoline plants. North Carolina originally adopted this rule in 1979, amended it a couple of times and submitted it to EPA for approval on April 29, 1991. EPA approved it into the federally-approved SIP on June 23, 1994, (59 FR 32362).

Rule .0929 was referenced in the appendix of the June 15, 2007, SIP revision but no rule change was made at that time. In an April 6, 2010, SIP revision, North Carolina made a negative declaration for this CTG source category stating that there are no applicable sources in the North Carolina portion of the bi-state Charlotte Area. As part of its analysis to support the negative declarations for aforementioned CTG source categories, NC DENR reviewed its permits files and emissions inventory information. After this review, NC DENR determined that there are no stationary sources or emitting facilities located in its portion of the bi-state Charlotte Area that are subject to aforementioned CTG source categories. EPA is now proposing to approve the negative declaration as provided in North Carolina's April 6, 2010, SIP revision. Today, EPA is also proposing to approve the June 15, 2007, SIP revision as it relates to the RACT requirements.

9. Rule 15A NCAC 02D .0930, “Solvent Metal Cleaning”

On October 5, 2006 (71 FR 58745), as part of the Group II CTG, EPA updated the portion of the 1977 Solvent Metal Cleaning CTG regarding the control of VOC emissions from the use of industrial cleaning solvents. North Carolina originally adopted Rule 15A NCAC 02D .0915, “Determination of Solvent Metal Cleaning VOC Emissions” and Rule .0930, “Solvent Metal Cleaning” in 1979. Rule .0915 was amended and submitted to EPA for approval on April 29, 1991. EPA approved the rule change on June 23, 1994, (59 FR 32362). Rule 0930, was amended and submitted to EPA for approval on April 17, 1990. EPA approved the rule change on June 23, 1994, (59 FR 32362).

On June 1, 2008, North Carolina repealed Rule .0915, “Determination of Solvent Metal Cleaning VOC Emissions” and replaced it with Rule .0930, “Solvent Metal Cleaning” and rules in section Rule 15A NCAC 02D .2600. In a SIP revision on November 19, 2008, North Carolina submitted this repeal to EPA for approval. Today, EPA is taking action to propose approval of the June 15, 2007, SIP revision as it relates to RACT (Rule .0930, Solvent Metal Cleaning was referenced in the appendix of the June 15, 2007, SIP revision but no rule change was made at that time), and to approve the repeal of Rule .0915.

10. Rule 15A NCAC 02D .0932, “Gasoline Truck Tanks and Vapor Collection System”

In 1978 EPA established a CTG addressing VOC emissions from Control of Volatile Organic Compound Leaks from Gasoline Tank Trucks and Vapor Collection Systems. North Carolina originally adopted this Rule .0932 in 1980. The following shows the state submittals and corresponding EPA approvals:

Date state submitted to EPA | Date of EPA approval | Federal Register approval
April 17, 1990 | July 21, 1994 | 59 FR 37162.
April 29, 1991 | June 23, 1994 | 59 FR 32362.
August 7, 2002 | December 27, 2002 | 67 FR 78980.
April 4, 2003 | September 17, 2003 | 68 FR 54362.

Rule .0932 was referenced in the appendix of the June 15, 2007, SIP revision but no rule change was made at that time. Rule .0932 was also amended to correct a cross-reference error, and submitted to EPA for approval on November 19, 2008. Today, EPA is taking action to propose approval of the June 15, 2007, SIP revision as it relates to RACT. EPA is also proposing to approve the changes to Rule .0932 as provided in North Carolina's November 19, 2008, SIP revision.

11. Rule 15A NCAC 02D .0933, “Petroleum Liquid Storage in External Floating Roof Tanks”

In 1978 EPA established a CTG addressing VOC emissions from petroleum liquid in external floating roof tanks. North Carolina originally adopted this Rule .0933 in 1980. The following shows the state submittals and corresponding EPA approvals:

Date State submitted to EPA | Date of EPA approval | Federal Register approval
April 17, 1990 | July 21, 1994 | 59 FR 37162.
April 29, 1991 | June 23, 1994 | 59 FR 32362.
July 1, 1995 | February 1, 1996 | 62 FR 3589.

Changes to this rule were state effective August 1, 2004, and submitted to EPA on October 14, 2004, for SIP approval. The rule was amended to clarify the seal requirements for external floating roof tanks. Rule .0933 was referenced in the appendix of the June 15, 2007, SIP revision but no rule change was made at that time. Today, EPA is proposing to approve North Carolina's October 14, 2004, SIP revision as related to Rule .0933.

12. Rule 15A NCAC 02D .0934, “Coating of Miscellaneous Metal Parts and Products”

In June 1978, EPA issued a CTG document to address the control of VOC emissions from surface coating of Miscellaneous Metal Parts and Products. On October 7, 2008 (73 FR 58481), EPA updated the 1978 CTG, as part of Group IV CTG, addressing the control of VOC emissions from surface coating of miscellaneous metal parts and products.

North Carolina originally adopted this rule in 1980, amended it a couple of times and submitted it to EPA for approval on April 17, 1990. EPA approved it into the federally-approved SIP on July 21, 1994, (59 FR 37162). The rule was amended again and submitted to EPA for SIP approval on April 29, 1991. EPA approved these amendments into the federally-approved SIP on June 23, 1994, (59 FR 32362). The rule was amended again and submitted to EPA for SIP approval on August 16, 1996. EPA approved these amendments into the federally-approved SIP on August 1, 1997, (62 FR 41277). Rule .0934 was referenced in the appendix of the June 15, 2007, SIP revision but no rule change was made at that time.

On September 1, 2010, North Carolina repealed this rule and replaced it with Rule 15A NCAC 02D .0967, “Miscellaneous Metal and Plastic Parts Coatings,” and on November 9, 2010, submitted this repeal to EPA for approval. EPA is taking action to propose approval of the June 15, 2007, SIP revision as it relates to RACT, and to approve North Carolina's November 9, 2010, SIP revision repealing Rule .0934. EPA will also be taking action to propose approval of Rule .0967.

13. Rule 15A NCAC 02D .0935, “Factory Surface Coating of Flat Wood Paneling”

In June 1978, EPA issued a CTG document to address the control of VOC emissions from surface coating of flat wood paneling. On October 5, 2006 (71 FR 58745), EPA updated the 1978 CTG, as part of Group II CTG, addressing the control of VOC emissions from surface coating of flat wood paneling operations.

North Carolina originally adopted this rule in 1980, amended it a couple of times and submitted it to EPA for approval on April 17, 1990. EPA approved it into the federally-approved SIP on July 21, 1994, (59 FR 37162). The rule was amended again and submitted to EPA for SIP approval on August 16, 1996. EPA approved these amendments into the federally-approved SIP on August 1, 1997, (62 FR 41277). Rule .0935 was referenced in the appendix of the June 15, 2007, SIP revision but no rule change was made at that time.

Changes to this rule were state effective September 1, 2010, and submitted to EPA on November 9, 2010, for SIP approval. The rule was amended to establish new emission limits for inks, coatings and adhesives used by the flat wood paneling coating facilities. The amendments offer two alternatives. EPA is proposing to approve into the SIP the June 15, 2007, SIP revision as it relates to RACT, and North Carolina's November 9, 2010, SIP revision as it relates to Rule .0935.

14. Rule 15A NCAC 02D .0936, “Graphic Arts (Repealed)”

In December 1978, EPA published a CTG for graphic arts (rotogravure printing and flexographic printing) that included flexible packaging printing. On October 5, 2006 (71 FR 58745), EPA updated the1978 CTG, as part of Group II CTG, addressing the control of VOC emissions from graphic arts systems consisting of packaging rotogravure, publication rotogravure or flexographic printing operations. North Carolina originally adopted this rule in 1980, amended it a couple of times and submitted it to EPA for approval on April 17, 1990. EPA approved it into the federally-approved SIP on June 23, 1994, (59 FR 32362). Rule .0936 was referenced in the appendix of the June 15, 2007, SIP revision but no rule change was made at that time.

On September 1, 2010, North Carolina repealed this rule and replaced it with Rule 15A NCAC 02D .0961, “Offset Lithographic Printing and Letterpress Printing” and Rule 15A NCAC 02D .0965, “Flexible Package Printing,” and on November 9, 2010, submitted this repeal to EPA for approval. EPA is taking action to propose approval of the June 15, 2007, SIP revision as it relates to RACT, and the November 9, 2010, SIP revision repealing Rule .0936. Below EPA is also taking action to propose approval of Rule .0961 and Rule .0965.

15. Rule 15A NCAC 02D .0943, “Synthetic Organic Chemical and Polymer Manufacturing”

In 1984 EPA established a CTG addressing VOC emissions from Synthetic Organic Chemical Polymers and Resins. North Carolina originally adopted this Rule .0943 in 1985 amended it and submitted it to EPA for approval on April 17, 1990. EPA approved it into the federally-approved SIP on June 23, 1994 (59 FR 32362). Rule .0943 was referenced in the appendix of the June 15, 2007, SIP revision but no rule change was made at that time. Rule .0943 was also amended to cross reference new rules in Section 15A NCAC 02D .2600 and submitted to EPA for approval on November 19, 2008. EPA is taking action to propose approval of the June 15, 2007, SIP revision as it relates to RACT, and of North Carolina's November 19, 2008, SIP revision as it relates to Rule .0943.

16. Rule 15A NCAC 02D .0945, “Petroleum Dry Cleaning”

In 1982 EPA established a CTG addressing VOC emissions from Petroleum Dry Cleaners. North Carolina originally adopted this Rule .0945 in 1985, amended it, and submitted it to EPA for approval on March 14, 1986. EPA approved it into the federally-approved SIP on November 19, 1986 (51 FR 41786). Rule .0945 was referenced in the appendix of the June 15, 2007, SIP revision but no rule change was made at that time.

Rule .0945 was also amended to cross-reference new rules in Section 15A NCAC 02D .2600 and submitted to EPA for approval on November 19, 2008. EPA is taking action to propose approval of the June 15, 2007, SIP revision as it relates to RACT, and of North Carolina's November 19, 2008, SIP revision as it relates to Rule .0945.

17. Rule 15A NCAC 02D .0961, “Offset Lithographic Printing and Letterpress Printing”

In December 1978, EPA published a CTG for graphic arts (rotogravure printing and flexographic printing) that included flexible packaging printing. On October 5, 2006 (71 FR 58745), EPA updated the 1978 CTG, as part of Group II CTG, addressing the control of VOC emissions from graphic arts systems consisting of packaging rotogravure, publication rotogravure or flexographic printing operations. North Carolina originally adopted Rule 15A NCAC 02D .0936, “Graphic Arts” in 1980, amended it and submitted it to EPA for approval into the federally-approved SIP. In a November 9, 2010, SIP revision North Carolina repealed Rule .0936, “Graphic Arts” and replaced it in part with Rule 15A NCAC 02D .0961, “Offset Lithographic Printing and Letterpress Printing.”

North Carolina originally adopted Rule .0961 on September 1, 2010, and submitted it for EPA approval on November 9, 2010. The rule was adopted to replace in part Rule .0936, “Graphic Arts.” EPA is proposing to conditionally approve North Carolina's November 9, 2010, SIP revision as related to Rule .0936.

18. Rule 15A NCAC 02D .0962, “Industrial Cleaning Solvents”

On October 5, 2006 (71 FR 58745), as part of the Group II CTG, EPA updated the portion of the 1977 Solvent Metal Cleaning CTG regarding the control of VOC emissions from the use of industrial cleaning solvents. North Carolina originally adopted Rule .0962, on September 1, 2010, and submitted it to EPA for approval into the federally-approved SIP on November 9, 2010. EPA is proposing to conditionally approve into the SIP the November 9, 2010, SIP revision as related to .0962.

19. Rule 15A NCAC 02D .0963, “Fiberglass Boat Manufacturing”

On October 7, 2008 (73 FR 58481), EPA established a CTG, as part of the Group IV CTG, addressing the control of VOC emissions from the fiberglass boat manufacturing industry. North Carolina originally adopted Rule .0963, on September 1, 2010, and submitted it to EPA for approval into the federally-approved SIP on November 9, 2010. EPA is proposing to approve into the SIP the November 9, 2010, SIP revision as related to Rule .0963.

20. Rule 15A NCAC 02D .0964, “Miscellaneous Industrial Adhesives”

On October 7, 2008 (73 FR 58481), EPA established a CTG, as part of Group IV CTG, addressing the control of VOC emissions from the use of miscellaneous industrial adhesives. North Carolina originally adopted Rule .0964, on September 1, 2010, and submitted it to EPA for approval into the federally-approved SIP on November 9, 2010. EPA is proposing to approve into the SIP the November 9, 2010, SIP revision as related to Rule .0964.

21. Rule 15A NCAC 02D .0965, “Flexible Package Printing”

In December 1978, EPA published a CTG for graphic arts (rotogravure printing and flexographic printing) that included flexible packaging printing. On October 5, 2006 (71 FR 58745), EPA updated the 1978 CTG, as part of Group II CTG, addressing the control of VOC emissions from graphic arts systems consisting of packaging rotogravure, publication rotogravure or flexographic printing operations. North Carolina originally adopted Rule 15A NCAC 02D .0936, “Graphic Arts” in 1980, amended it and submitted it to EPA for approval into the federally-approved SIP. In a November 9, 2010, SIP revision North Carolina repealed Rule .0936, “Graphic Arts” and replaced it in part with Rule .0965, “Flexible Package Printing.”

North Carolina originally adopted Rule .0965 on September 1, 2010, and submitted it for EPA approval on November 9, 2010. The rule was adopted to replace in part Rule .0936 Graphic Arts. EPA is proposing to approve into the SIP the November 9, 2010, SIP revision as related to Rule .0965.

22. Rule 15A NCAC 02D .0966, “Paper, Film and Foil Coatings”

In May 1977, EPA established a CTG addressing the control of VOC emissions from paper coating operations. On October 9, 2007 (73 FR 57215), EPA updated the 1977 CTG, as part of Group III CTG, addressing the control of VOC emissions from paper, film and foil coating operations. North Carolina originally adopted Rule 15A NCAC 02D .0920, “Paper Coatings” in 1979, amended it and submitted it to EPA for approval into the federally-approved SIP. On September 1, 2010, North Carolina repealed Rule .0920, “Paper Coatings,” and replaced it with Rule .0966, “Paper Film and Foil Coatings,” and on November 9, 2010, submitted this repeal to EPA for approval.

North Carolina originally adopted Rule .0966 on September 1, 2010 and submitted it for EPA approval on November 9, 2010. The rule was adopted to replace Rule .0920 “Paper Coatings.” EPA is proposing to approve into the SIP the November 9, 2010, SIP revision as related to Rule .0966.

23. Rule 15A NCAC 02D .0967, “Miscellaneous Metal and Plastic Parts Coatings”

In June 1978, EPA issued a CTG document to address the control of VOC emissions from surface coating of Miscellaneous Metal Parts and Products. On October 7, 2008 (73 FR 58481), EPA updated the 1978 CTG, as part of Group IV CTG, addressing the control of VOC emissions from surface coating of miscellaneous metal parts and products.

North Carolina originally adopted Rule 15A NCAC 02D .0934, “Coating of Miscellaneous Metal Parts and Products” in 1980, amended it and submitted it to EPA for approval into the federally-approved SIP. In a November 9, 2010, SIP revision North Carolina repealed Rule .0934, “Coating of Miscellaneous Metal Parts and Products” and replaced it with Rule .0967, “Miscellaneous Metal and Plastic Parts Coatings”. North Carolina originally adopted Rule .0967 on September 1, 2010, and submitted it for EPA approval on November 9, 2010. The rule was adopted to replace Rule .0934 “Coating of Miscellaneous Metal Parts and Products.” EPA is proposing to approve into the SIP the November 9, 2010, SIP revision as it relates to Rule .0967.

24. Rule 15A NCAC 02D .0968, “Automobile and Light Duty Truck Assembly Coatings”

In May 1977, EPA issued a CTG document (1977 CTG) for controlling VOC emissions from surface coating of automobiles and light-duty trucks. On October 7, 2008 (73 FR 58481), EPA updated the 1977 CTG, as part of Group IV CTG, addressing the control of VOC emissions from automobile and light-duty truck manufacturing.

North Carolina originally adopted Rule 15A NCAC 02D .0917, “Automobile and Light Duty Truck Manufacturing” in 1979, amended it and submitted it to EPA for approval into the federally-approved SIP. In a November 9, 2010, SIP revision North Carolina repealed Rule .0917, “Automobile and Light Duty Truck Manufacturing” and replaced it with Rule .0968, “Automobile and Light Duty Truck Assembly Coatings.”

North Carolina originally adopted Rule .0968 on September 1, 2010, and submitted it for EPA approval on November 9, 2010. The rule was adopted to replace Rule .0917 “Automobile and Light Duty Truck Manufacturing.” EPA is proposing to approve into the SIP the November 9, 2010, SIP revision as it relates to Rule .0968.

b. General RACT Rules

Moderate and above ozone nonattainment areas are required to have regulations in place that require major VOC sources and NOx sources to meet RACT requirements. North Carolina was required to meet VOC major source RACT and NOx major source RACT for the Charlotte 1-hour ozone nonattainment area, which consisted of Mecklenburg and Gaston Counties. The bi-state Charlotte Area was designated as a moderate nonattainment area for the 1997 8-hour ozone standard on June 15, 2004. North Carolina was then required to meet major source VOC RACT and major source NOx RACT for the entire seven county 1997 8-hour nonattainment area. The following are RACT rules for the North Carolina portion of the bi-state Charlotte Area.

25. Rule 15A NCAC 02D .0901, “Definitions”

North Carolina originally adopted this rule in 1979, amended it a number of times and submitted it to EPA for approval on April 17, 1990. EPA approved it into the federally-approved SIP on July 21, 1994 (59 FR 37162). The rule was amended numerous times after that and submitted to EPA for SIP approval on August 16, 1996. EPA approved these amendments into the federally-approved SIP on August 1, 1997, (62 FR 41277).

This rule was referenced in the appendix of the June 15, 2007, SIP revision but no rule changes were made at that time. Changes to this rule were state effective March 13, 2008, and submitted to EPA on November 19, 2008, for SIP approval. The rule was amended to cross reference the new Rule Section 15A NCAC 02D .2600. Additional changes to this rule were state effective January 1, 2009, and submitted to EPA on September 18, 2009, for SIP approval. The rule was amended to include the definition of Stage I vapor control. EPA is proposing to approve into the SIP the November 19, 2008 and September 18, 2009, SIP revision changes to this rule.

26. Rule 15A NCAC 02D .0902, “Applicability”

North Carolina originally adopted this rule in 1979, amended it a number of times and submitted it to EPA for approval. The following table shows the dates it was submitted to EPA and approved into the federally-approved SIP.

Date State submitted to EPA | Date of EPA approval | Federal Register approval
November 8, 1984 | December 19, 1986 | 51 FR 45468.
January 7, 1994 and August 16, 1996 | August 1, 1997 | 62 FR 41277.
March 19, 1997 | October 15, 1999 | 64 FR 55879.
July 28, 2000 | August 27, 2001 | 66 FR 34117.

Rule .0902 has been revised and submitted to EPA in numerous SIP submissions that have not yet been approved. Changes to this rule were state effective August 1, 2004, and submitted to EPA on October 14, 2004. The rule was amended to specify applicability for the 15A NCAC 02D .0900 Section Rules. Changes to this rule were state effective March 1, 2007, and submitted to EPA on April 6, 2007. The rule was amended to make the .0900 Section rules applicable to major sources in the Area. Rule .0902 was referenced in the appendix of the June 15, 2007, SIP revision but no rule change was made at that time. Changes to this rule were state effective July 1, 2007, and submitted to EPA on January 31, 2008. The rule was amended to cover facilities with the potential to emit between 50 and 100 tons VOC per year in the bi-State Charlotte Area and to describe additional VOC sources covered and actions to be taken if EPA reclassified the bi-State Charlotte Area to serious.³⁰ Changes to this rule were state effective January 1, 2009, and submitted to EPA on September 18, 2009. The rule was amended to remove a reference to Rule 15A NCAC 02D .0953 that has been repealed. Changes to this rule were state effective September 1, 2010, and submitted to EPA on November 9, 2010. The rule was amended to extend the work practice standards in 15A NCAC 02D .0958 to all sources of VOC in the state and to clarify that all areas that become subject to the VOC RACT rules shall continue to comply with those rules after the area is redesignated to attainment.

³⁰ As provided for in the CAA, North Carolina was granted a 1 year extension of the attainment date (See 76 FR 31245, May 31, 2011), attained the standard prior to the extended attainment date, and was not reclassified to serious and continued to be a moderate area.

EPA is proposing conditional approval of the changes to this rule that were submitted to EPA on October 14, 2004, with the exception of the start-up, shutdown language as described in Section II. A. a. of this document and the revisions submitted, April 6, 2007, January 31, 2008, September 18, 2009 and November 9, 2010, on the condition that North Carolina will finalize their draft November 28, 2012, submittal, submit it to EPA and meet federal law.

27. Rule 15A NCAC 02D .0909, “Compliance Schedules for Sources in Nonattainment Areas”

North Carolina originally adopted this rule in 1979, amended it and submitted it to EPA for approval on November 8, 1984. EPA approved it into the federally-approved SIP on December 19, 1986, (51 FR 45468). The rule was amended again and submitted to EPA for SIP approval on March 19, 1997. EPA approved these amendments into the federally-approved SIP on October 15, 1999, (64 FR 55879). The rule was amended again and submitted to EPA for SIP approval on July 28, 2000. EPA approved these amendments into the federally-approved SIP on August 27, 2001, (66 FR 34117).

Rule .0909 has been revised and submitted to EPA in numerous SIP submissions that have not yet been approved. Changes to this rule were state effective March 1, 2007, and submitted to EPA on April 6, 2007. The rule was amended to add a compliance schedule for nonattainment areas, distinguishing the compliance schedules for maintenance areas and new nonattainment areas. Rule .0909 was referenced in the appendix of the June 15, 2007, SIP revision but no rule change was made at that time. Changes to this rule were state effective July 1, 2007, and submitted to EPA on January 31, 2008. The rule was amended to add VOC RACT compliance schedules if EPA had reclassified the bi-state Charlotte Area to serious.³¹ Changes to this rule were state effective January 1, 2009, and submitted to EPA on September 18, 2009. The rule was amended to remove a reference to Rules .0953 and .0954 that have been repealed. Changes to this rule were state effective September 1, 2010, and submitted to EPA on November 9, 2010. The rule was amended to change cross references.

³¹ As provided for in the CAA, on May 31, 2011, North Carolina was granted a 1 year extension of the attainment date (See 76 FR 31245), attained the standard prior to the extended attainment date, and was not reclassified to serious and continued to be a moderate area.

EPA is proposing conditional approval of the changes to this rule that were submitted to EPA on April 6, 2007, January 31, 2008, September 18, 2009 and November 9, 2010, on the condition that North Carolina will finalize their draft November 28, 2012, SIP revision, submit it to EPA and meet federal law.

28. Rule 15A NCAC 02D .0912, “General Provisions on Test Methods and Procedures”

North Carolina originally adopted this rule in 1979, amended it and submitted it to EPA for approval on November 8, 1984. EPA approved it into the federally-approved SIP on December 19, 1986, (51 FR 45468). The rule was amended again and submitted to EPA for SIP approval on April 4, 2003. EPA approved these amendments into the federally-approved SIP on September 17, 2003, (68 FR 54362). Rule .0912 was referenced in the appendix of the June 15, 2007, SIP revision but no rule change was made at that time.

Rule .0912 has been revised and submitted to EPA in a SIP submission that has not yet been approved. Changes to this rule were state effective March 13, 2008, and submitted to EPA on November 19, 2008. The rule was amended to add the cross-reference and remove verbal explanations of testing expectations and schedules that are transferred to the new rule Section 15A NCAC 02D .2600 as submitted on November 19, 2008. EPA is taking action to propose approval of the June 15, 2007, SIP revision as it relates to RACT, and EPA is proposing to approve the changes made to this rule in the November 19, 2008, SIP revision.

29. Rule 15A NCAC 02D .0913, “Determination of Volatile Content of Surface Coatings” Repealed

North Carolina originally adopted this rule in 1979, amended it and submitted it to EPA for approval on July 1, 1988. EPA approved it into the federally-approved SIP on January 16, 1990, (55 FR 1420). Rule .0913 was referenced in the appendix of the June 15, 2007, SIP revision but no rule change was made at that time.

Rule .0913 has been repealed and submitted to EPA in a SIP submission that has not yet been approved. This rule was repealed, state effective March 13, 2008, and submitted to EPA on November 19, 2008. The repealed rule was replaced with requirements in the new rule Section .2600 as submitted on November 19, 2008. EPA is taking action to propose approval of the June 15, 2007, SIP revision as it relates to RACT and EPA is proposing to approve the repeal of this rule in the November 19, 2008, SIP revision.

30. Rule 15A NCAC 02D .0914, “Determination of VOC Emission Control System Efficiency” Repealed

North Carolina originally adopted this rule in 1979, amended it and submitted it to EPA for approval on November 8, 1984. EPA approved it into the federally-approved SIP on December 19, 1986. See 51 FR 45468. It was amended again and submitted to EPA for approval on July 29, 1998. EPA approved it into the federally-approved SIP on November 10, 1999. See 64 FR 61213. Rule .0914 was referenced in the appendix of the June 15, 2007, SIP revision but no rule change was made at that time.

Rule .0914 was repealed and submitted to EPA in a SIP submission that has not yet been approved. This repealed rule became state effective March 13, 2008, and was submitted to EPA on November 19, 2008. The repealed rule was replaced with requirements in the new rule Section 15A NCAC 02D .2600 as submitted on November 19, 2008. EPA is taking action to propose approval of the June 15, 2007, SIP revision as it relates to RACT and EPA is proposing to approve the repeal of this rule in the November 19, 2008, SIP revision.

31. Rule 15A NCAC 02D .0939, “Determination of Volatile Organic Compound Emissions (Repealed)”

North Carolina originally adopted this rule in 1980, amended it a number of times and submitted it to EPA for approval on July 1, 1988. EPA approved it into the federally-approved SIP on January 16, 1990, (55 FR 1420). Rule .0939 was referenced in the appendix of the June 15, 2007, SIP revision but no rule change was made at that time.

On March 13, 2008, North Carolina repealed this rule and submitted the repeal to EPA for approval on November 19, 2008. In that same submittal, North Carolina replaced Rule .0939 with Rule 15A NCAC 02D .2613, “Volatile Organic Compound Testing Methods.” EPA is taking action to propose approval of the June 15, 2007, SIP revision as it relates to RACT and the November 19, 2008, SIP revision repealing Rule .0939. EPA will also be taking action to propose approval of Rule .2613.

32. Rule 15A NCAC 02D .0940, “Determination of Leak Tightness and Vapor Leaks (Repealed)”

North Carolina originally adopted this rule in 1980, amended it a number of times and submitted it to EPA for approval. The following Table shows the state submittals and corresponding EPA approvals:

Date State submitted to EPA | Date of EPA Approval | Federal Register approval
June 23, 1980 | August 27, 1981 | 46 FR 43137.
December 17, 1984 | December 19, 1986 | 51 FR 45468.
July 1, 1988 | January 16, 1990 | 55 FR 1420.

Rule .0940 was referenced in the appendix of the June 15, 2007, SIP revision but no rule change was made at that time. On March 13, 2008, North Carolina repealed this rule and submitted the repeal to EPA for approval on November 19, 2008. In that same submittal, North Carolina replaced Rule .0940 with Rule 15A NCAC 02D .2615, “Determination of Leak Tightness and Vapor Leaks.” EPA is taking action to propose approval of the June 15, 2007, SIP revision as it relates to RACT and the November 19, 2008, SIP revision repealing Rule .0940. EPA will also be taking action to propose approval of Rule .2615.

33. Rule 15A NCAC 02D .0941, “Alternative Method for Leak Tightness (Repealed)”

North Carolina originally adopted this rule in 1980, amended it a number of times and submitted it to EPA for approval on April 17, 1990. EPA approved it into the federally-approved SIP on June 23, 1994 (59 FR 32362). Rule .0941 was referenced in the appendix of the June 15, 2007, SIP revision but no rule change was made at that time.

On March 13, 2008, North Carolina repealed this rule and submitted the repeal to EPA for approval on November 19, 2008. In that same submittal, North Carolina replaced Rule .0941 with Rule 15A NCAC 02D .2615. EPA is taking action to propose approval of the June 15, 2007, SIP revision as it relates to RACT and the November 19, 2008, SIP revision repealing Rule .0941. EPA will also be taking action to propose approval of Rule .2615.

34. Rule 15A NCAC 02D .0942, “Determination of Solvent in Filter Waste (Repealed)”

North Carolina originally adopted this rule in 1980, amended it a number of times and submitted it to EPA for approval on July 23, 1990. EPA approved it into the federally-approved SIP on August 27, 1981. See 46 FR 43137. Rule .0942 was referenced in the appendix of the June 15, 2007, SIP revision but no rule change was made at that time.

On March 13, 2008, North Carolina repealed this rule and submitted the repeal to EPA for approval on November 19, 2008. In that same submittal, North Carolina replaced Rule .0942 with Rule 15A NCAC 02D .2613, “Volatile Organic Compound Testing Methods.” EPA is taking action to propose approval of the June 15, 2007, SIP revision as it relates to RACT and the November 19, 2008, SIP revision repealing Rule .0942. EPA will also be taking action to propose approval of Rule .2613.

35. Rule 15A NCAC 02D .0951, “Miscellaneous Volatile Organic Compound Emissions”

North Carolina originally adopted Rule .0951 in 1994 and submitted it for EPA approval on January 7, 1994, and again on August 16, 1995. EPA approved these revisions on August 1, 1996. See 62 FR 41277. North Carolina submitted amendments to EPA for approval into the federally-approved SIP on July 28, 2000. EPA approved these amendments on June 27, 2001, (66 FR 34117). Rule .0951 was referenced in the appendix of the June 15, 2007, SIP revision but no rule change was made at that time.

Changes to this rule were state effective September 1, 2010, and submitted to EPA on November 9, 2010, for SIP approval. The rule was amended to change cross references to other Section 15A NCAC 02D .0900 rules. The Rule was amended again, including a name change to “RACT for Sources of Volatile Organic 3 Compounds.” This revision was submitted for EPA approval on November 28, 2012, for parallel processing. EPA is proposing to approve into the SIP the June 15, 2007, SIP revision as it relates to RACT, and proposing to conditionally approve the November 9, 2010, SIP revision into the SIP.

36. Rule 15A NCAC 02D .1402, “Applicability”

North Carolina originally adopted Rule .1402 in 1995, and submitted it for EPA approval on November 18, 2001. EPA approved these changes on June 24, 2002 (67 FR 42519). North Carolina submitted amendments to EPA for approval into the federally-approved SIP on July 15, 2002. EPA approved these amendments on December 27, 2002 (67 FR 78987).

Rule .1402 has been revised and submitted to EPA in numerous SIP submissions that have not yet been approved. Changes to this rule were state effective March 1, 2007, and submitted to EPA on April 6, 2007. The rule was amended to major sources in the Area. Rule .1402 was also referenced in the appendix of the June 15, 2007, SIP revision but no rule change was made at that time. Changes to this rule were state effective July 1, 2007, and submitted to EPA on January 31, 2008. The rule was amended to address facilities with the potential to emit between 50 and 100 tons of NOX per year and describe actions to be taken if EPA notifies the State that the bi-state Charlotte Area has failed to attain compliance with the ozone standard. Changes to this rule were state effective July 1, 2007, and submitted to EPA on November 19, 2008. The rule was amended to remove reference to repealed rules. Changes to this rule were state effective January 1, 2010, and submitted to EPA on February 3, 2010. The rule was amended to specify which parts of this section apply to sources covered under CAIR, to clarify RACT requirements in nonattainment areas and to correct cross-reference errors. EPA is proposing to approve into the SIP the version of Rule .1402, “Applicability” submitted on February 3, 2010, which incorporated all of the changes listed above.

37. Rule 15A NCAC 02D .1403, “Compliance Schedules”

North Carolina originally adopted Rule .1403 in 1995, and submitted it for EPA approval on November 18, 2001. EPA approved these changes on June 24, 2002. See 67 FR 42519. North Carolina submitted amendments to EPA for approval into the federally- approved SIP on July 15, 2002. EPA approved these amendments on December 27, 2002 (67 FR 78987).

Changes to Rule .1403 became state effective on March 1, 2007, and were submitted to EPA for SIP approval on April 6, 2007. Specifically, this rule was amended to add a compliance schedule for nonattainment areas distinguishing the compliance schedules for maintenance areas and new nonattainment areas. Rule .1403 was also referenced in the appendix of the June 15, 2007, SIP revision but no rule change was made at that time. Rule .1403 was amended again with changes state effective on July 1, 2007, and submitted to EPA for SIP approval on January 31, 2008. It was amended to add NOX RACT compliance schedules for the bi-state Charlotte Area if the ozone nonattainment plan fails to attain compliance. EPA is proposing to approve into the SIP the version of Rule 15A NCAC 02D .1403, “Compliance Schedules” submitted on January 31, 2008, which incorporated all of the changes listed above.

38. Rule 15A NCAC 02D .1404, “Recordkeeping: Reporting: Monitoring”

North Carolina originally adopted Rule .1404 in 1995, and submitted it for EPA approval on November 18, 2001. EPA approved these changes on June 24, 2002. See 67 FR 42519. North Carolina submitted amendments to EPA for approval into the federally- approved SIP on July 15, 2002. EPA approved these amendments on December 27, 2002 (67 FR 78987).

Changes to Rule .1404 became state effective on May 1, 2004, and were submitted to EPA for SIP approval on October 14, 2004. This rule was amended to clarify monitoring requirements. Rule .1404 was also referenced in the appendix of the June 15, 2007, SIP revision but no rule change was made at that time. EPA is proposing to approve into the SIP the version of Rule 15A NCAC 02D .1404, “Recordkeeping: Reporting: Monitoring” submitted on October 14, 2004.

39. Rule 15A NCAC 02D .1407, “Boilers and Indirect Process Heaters”

North Carolina originally adopted Rule 15A NCAC 02D .1407 in 1995, and then made some temporary amendments. Rule 15A NCAC 02D .1407 was also referenced in the appendix of the June 15, 2007, SIP revision but no rule change was made at that time. North Carolina amended the rule, state effective July 15, 2002, and submitted it for EPA approval on November 19, 2008. It was amended to account for changes in Rule .1402 Applicability. EPA has made the preliminary determination that this change is consistent with federal requirements, and thus EPA is proposing to approve the changes to this rule as was submitted November 19, 2008.

40. Rule 15A NCAC 02D .1408, “Stationary Combustion Turbines”

North Carolina originally adopted Rule .1408 in 1995, and then made some temporary amendments. Rule .1408 was also referenced in the appendix of the June 15, 2007, SIP revision but no rule change was made at that time. North Carolina amended Rule .1408, these changes became state effective July 15, 2002, and submitted it for EPA approval on November 19, 2008. It was amended to account for changes in Rule .1402 Applicability. EPA has made the preliminary determination that this change is consistent with federal requirements, and thus EPA is proposing to approve the changes to this rule as it was submitted November 19, 2008.

41. Rule 15A NCAC 02D .1409, “Stationary Internal Combustion Turbines”

North Carolina originally adopted Rule .1409 in 1995 and submitted it for EPA approval on November 18, 2001. EPA approved these changes on June 24, 2002. See 67 FR 42519. North Carolina submitted amendments to EPA for approval into the federally-approved SIP on July 15, 2002. EPA approved these amendments on December 27, 2002. See 67 FR 78987.

Changes to Rule.1409 became state effective on May 1, 2004, and was submitted to EPA for approval on October 14, 2004. It was amended to clarify stationary internal combustion engine requirements. Rule .1409 was referenced in the appendix of the June 15, 2007, SIP revision but no rule change was made at that time. Changes to Rule .1409 became state effective on March 13, 2008, and were submitted to EPA for SIP approval on November 19, 2008. Specifically, it was amended to remove reference to repealed rules. EPA has made the preliminary determination that this change is consistent with federal requirements, and thus EPA is proposing to approve the changes to this rule as it was submitted November 19, 2008.

42. Rule 15A NCAC 02D .1410, “Emissions Averaging”

North Carolina originally adopted Rule .1410 in 1995 and then made some temporary amendments. Rule .1410 was also referenced in the appendix of the June 15, 2007, SIP revision but no rule change was made at that time. North Carolina amended Rule .1410, the changes became state effective on July 15, 2002, and March 13, 2008, and were submitted for EPA approval on November 19, 2008. Specifically, it was amended to remove references to repealed rules. EPA has made the preliminary determination that this change is consistent with federal requirements, and thus EPA is proposing to approve the changes to this rule as it was submitted November 19, 2008.

43. Rule 15A NCAC 02D .1411, “Seasonal Fuel Switching”

North Carolina originally adopted Rule .1411 in 1995, and then made some temporary amendments. Rule .1411 was also referenced in the appendix of the June 15, 2007, SIP revision but no rule change was made at that time. North Carolina amended Rule .1411, it became state effective on July 15, 2002, and March 13, 2008, and was submitted for EPA approval on November 19, 2008. Specifically, it was amended to remove references to repealed rules. EPA has made the preliminary determination that this change is consistent with federal requirements, and thus EPA is proposing to approve the changes to this rule as it was submitted November 19, 2008.

44. Rule 15A NCAC 02D .1412, “Petition for Alternative Limitations”

North Carolina originally adopted Rule .1412 in 1995 and then made some temporary amendments. Rule .1412 was also referenced in the appendix of the June 15, 2007, SIP revision but no rule change was made at that time. North Carolina amended Rule .1412, it became state effective July 15, 2002, and March 13, 2008, and was submitted for EPA approval on November 19, 2008. Specifically, it was amended to remove references to repealed rules. EPA has made the preliminary determination that this change is consistent with federal requirements, and thus EPA is proposing to approve the changes to this rule as it was submitted November 19, 2008.

45. Rule 15A NCAC 02D .1415, “Test Methods and Procedures”

North Carolina originally adopted Rule .1415 in 1995 and then made some temporary amendments. Rule .1415 was also referenced in the appendix of the June 15, 2007, SIP revision but no rule change was made at that time. North Carolina amended Rule .1415, it became state effective on July 15, 2002, and March 13, 2008, and was submitted for EPA approval on November 19, 2008. Specifically, it was amended to cross-reference the new rules in Section 15A NCAC 02D .2600. EPA has made the preliminary determination that this change is consistent with federal requirements, and thus EPA is proposing to approve the changes to this rule as it was submitted November 19, 2008.

46. Rule 15A NCAC 02D .1416, “Emission Allocations for Utility Companies”

North Carolina originally adopted Rule .1416 in 2001, and submitted it for EPA approval on November 18, 2001. EPA approved these changes on June 24, 2002 (67 FR 42519). North Carolina submitted amendments to EPA for approval into the federally-approved SIP on July 15, 2002. EPA approved these amendments on December 27, 2002. See 67 FR 78987.

North Carolina amended Rule .1416 and submitted these revisions to EPA for approval on October 14, 2004. Rule .1416 was referenced in the appendix of the June 15, 2007, SIP revision but no rule change was made at that time. North Carolina amended Rule .1416, it became state effective on July 15, 2002, and June 1, 2004, and on March 13, 2008, North Carolina repealed the rule. North Carolina submitted this repeal for EPA approval on November 19, 2008. It was repealed because it was replaced by North Carolina's CAIR SIP revision which was approved by EPA. See 74 FR 62496 (November 30, 2009). EPA has made the preliminary determination that this change to North Carolina's SIP is consistent with federal requirements, and thus EPA is proposing to approve the changes to this rule as it was submitted November 19, 2008.

47. Rule 15A NCAC 02D .1417, “Emission Allocations for Large Combustion Sources”

North Carolina originally adopted Rule .1417 in 2001, and submitted it for EPA approval on November 18, 2001. EPA approved these changes on June 24, 2002 (67 FR 42519). North Carolina submitted amendments to EPA for approval into the federally-approved SIP on July 15, 2002. EPA approved these amendments on December 27, 2002. See 67 FR 78987.

North Carolina amended Rule .1417 and submitted these revisions to EPA for approval on October 14, 2004. Rule .1417 was referenced in the appendix of the June 15, 2007, SIP revision but no rule change was made at that time. North Carolina amended Rule .1417, it became state effective on July 15, 2002, and June 1, 2004, and on March 13, 2008, North Carolina repealed the rule. North Carolina submitted this repeal for EPA approval on November 19, 2008. It was repealed because it was replaced by North Carolina's CAIR SIP revision which was approved by EPA. See 74 FR 62496 (November 30, 2009). EPA has made the preliminary determination that this change to North Carolina's SIP is consistent with federal requirements, and thus EPA is proposing to approve the changes to this rule as it was submitted November 19, 2008.

48. Rule 15A NCAC 02D .1418, “New Electric Generating Units, Large Boilers, and Large Internal Combustion Engines”

North Carolina originally adopted Rule .1418 in 2001, and submitted it for EPA approval on November 18, 2001. EPA approved these changes on June 24, 2002. See 67 FR 42519. North Carolina submitted amendments to EPA for approval into the federally-approved SIP on July 15, 2002. EPA approved these amendments on December 27, 2002. See 67 FR 78987.

Rule .1418 was amended to clarify offsets for new electric generating units, large boilers and large internal combustion engines and submitted these revisions to EPA for approval on October 14, 2004. Rule .1418 was referenced in the appendix of the June 15, 2007, SIP revision but no rule change was made at that time. North Carolina amended Rule .1418, it became state effective on July 15, 2002, June 1, 2004, and March 13, 2008. North Carolina submitted it for EPA approval on November 19, 2008. It was amended to remove offset language that was replaced by North Carolina's CAIR SIP revision which was approved by EPA. See 74 FR 62496 (November 30, 2009). EPA has made the preliminary determination that this change to North Carolina's SIP is consistent with federal requirements, and thus EPA is proposing to approve the changes to this rule as it was submitted November 19, 2008.

49. Rule 15A NCAC 02D .1419, “Nitrogen Oxide Budget Trading Program”

North Carolina originally adopted Rule .1419 in 2001, and submitted it for EPA approval on November 18, 2001. EPA approved these changes on June 24, 2002. See 67 FR 42519. North Carolina submitted amendments to EPA for approval into the federally-approved SIP on July 15, 2002. EPA approved these amendments on December 27, 2002. See 67 FR 78987.

North Carolina amended Rule .1419 and submitted these revisions to EPA for approval on October 14, 2004. Rule .1419 was referenced in the appendix of the June 15, 2007, SIP revision but no rule change was made at that time. North Carolina amended Rule .1419, it became state effective on July 15, 2002 and June 1, 2004, and on March 13, 2008, North Carolina repealed the rule. North Carolina submitted this repeal for EPA approval on November 19, 2008. It was repealed because it was replaced by North Carolina's CAIR SIP revision which was approved by EPA. See 74 FR 62496 (November 30, 2009). EPA has made the preliminary determination that this change to North Carolina's SIP is consistent with federal requirements, and thus EPA is proposing to approve the changes to this rule as it was submitted November 19, 2008.

50. Rule 15A NCAC 02D .1420, “Periodic Review and Reallocations”

North Carolina originally adopted Rule .1420 in 2001, and submitted it for EPA approval on November 18, 2001. EPA approved these changes on June 24, 2002. See 67 FR 42519. North Carolina submitted amendments to EPA for approval into the federally-approved SIP on July 15, 2002. EPA approved these amendments on December 27, 2002. See 67 FR 78987.

Rule .1420 was referenced in the appendix of the June 15, 2007, SIP revision but no rule change was made at that time. North Carolina amended Rule .1420, it became state effective July 15, 2002, and on March 13, 2008, North Carolina repealed the rule. North Carolina submitted this repeal for EPA approval on November 19, 2008. It was repealed because it was replaced by North Carolina's CAIR SIP revision which was approved by EPA. See 74 FR 62496 (November 30, 2009). EPA has made the preliminary determination that this change to North Carolina's SIP is consistent with federal requirements, and thus EPA is proposing to approve the changes to this rule as it was submitted November 19, 2008.

51. Rule 15A NCAC 02D .1421, “Allocations for New Growth of Major Point Sources”

North Carolina originally adopted Rule .1421 in 2001, and submitted it for EPA approval on November 18, 2001. EPA approved these changes on June 24, 2002. See 67 FR 42519. North Carolina submitted amendments to EPA for approval into the federally-approved SIP on July 15, 2002. EPA approved these amendments on December 27, 2002. See 67 FR 78987.

Rule .1421 was referenced in the appendix of the June 15, 2007, SIP revision but no rule change was made at that time. North Carolina amended Rule .1421, it became state effective July 15, 2002, and on March 13, 2008, North Carolina repealed the rule. North Carolina submitted this repeal for EPA approval on November 19, 2008. It was repealed because it was replaced by North Carolina's CAIR SIP revision which was approved by EPA. See 74 FR 62496 (November 30, 2009). EPA has made the preliminary determination that this change to North Carolina's SIP is consistent with federal requirements, and thus EPA is proposing to approve the changes to this rule as it was submitted November 19, 2008.

52. Rule 15A NCAC 02D .1422, “Compliance Supplement Pool Credits”

North Carolina originally adopted Rule .1422 in 2001, and submitted it for EPA approval on November 18, 2001. EPA approved these changes on June 24, 2002. See 67 FR 42519. North Carolina submitted amendments to EPA for approval into the federally-approved SIP on July 15, 2002. EPA approved these amendments on December 27, 2002. See 67 FR 78987.

North Carolina amended Rule .1422 and submitted these revisions to EPA for approval on October 14, 2004. Rule 15A NCAC 02D .1422 was referenced in the appendix of the June 15, 2007, SIP revision but no rule change was made at that time. North Carolina amended Rule .1422, it became state effective July 15, 2002, and on March 13, 2008, North Carolina repealed the rule. North Carolina submitted this repeal for EPA approval on November 19, 2008. It was repealed because it was replaced by North Carolina's CAIR SIP revision which was approved by EPA. See 74 FR 62496 (November 30, 2009). EPA has made the preliminary determination that this change to North Carolina's SIP is consistent with federal requirements, and thus EPA is proposing to approve the changes to this rule as it was submitted November 19, 2008.

53. Rule 15A NCAC 02D .2601, “Purpose and Scope”

North Carolina originally adopted Rule .2601 on March 13, 2008, and submitted it for EPA approval on November 19, 2008. It was adopted to define the purpose of the application of Section 15A NCAC 02D .2600. EPA has evaluated this rule and has made the preliminary determination that this rule is consistent with federal requirements. Therefore, EPA is proposing to approve this rule.

54. Rule 15A NCAC 02D .2602, “General Provisions on Test Methods”

North Carolina originally adopted Rule .2602 on March 13, 2008, and submitted it for EPA approval on November 19, 2008. It was adopted to describe the general provisions to be used during source testing using the methods and procedures in Section 15A NCAC 02D .2600. EPA has evaluated this rule and has made the preliminary determination that this rule is consistent with federal requirements. Therefore, EPA is proposing to approve this rule.

55. Rule 15A NCAC 02D .2603, “Testing Protocol”

North Carolina originally adopted Rule .2603 on March 13, 2008, and submitted it for EPA approval on November 19, 2008. It was adopted to describe the construction of a source test protocol. EPA has evaluated this rule and has made the preliminary determination that this rule is consistent with federal requirements. Therefore, EPA is proposing to approve this rule.

56. Rule 15A NCAC 02D .2604, “Number of Test Points”

North Carolina originally adopted Rule .2604 on March 13, 2008, and submitted it for EPA approval on November 19, 2008. It was adopted to describe the source testing requiring the use of Method 1 of Appendix A of 40 CFR Part 60 during any source test in which velocity and volume flow rate measurements are required. EPA has evaluated this rule and has made the preliminary determination that this rule is consistent with federal requirements. Therefore, EPA is proposing to approve this rule.

57. Rule 15A NCAC 02D .2605, “Velocity and Volume Flow Rate”

North Carolina originally adopted Rule .2605 on March 13, 2008, and submitted it for EPA approval on November 19, 2008. It was adopted to explicitly require the use of Method 2 of Appendix A of 40 CFR Part 60 during any source test in which velocity and volume flow rate measurements are required. EPA has evaluated this rule and has made the preliminary determination that this rule is consistent with federal requirements. Therefore, EPA is proposing to approve this rule.

58. Rule 15A NCAC 02D .2606, “Molecular Weight”

North Carolina originally adopted Rule .2606 on March 13, 2008, and submitted it for EPA approval on November 19, 2008. It was adopted to explicitly require the use of Method 3 of Appendix A of 40 CFR Part 60 during any source test method requiring determination of the molecular weight of the gas being sampled by determining the fraction of carbon dioxide, oxygen, carbon monoxide, and nitrogen are required, with one exception to Method 3 provided. EPA has evaluated this rule and has made the preliminary determination that this rule is consistent with federal requirements. Therefore, EPA is proposing to approve this rule.

59. Rule 15A NCAC 02D .2607, “Determination of Moisture Content”

North Carolina originally adopted Rule .2607 on March 13, 2008, and submitted it for EPA approval on November 19, 2008. It was adopted to require the use of Method 4 of Appendix A of 40 CFR Part 60 during any test method requiring determination of gas moisture content. EPA has evaluated this rule and has made the preliminary determination that this rule is consistent with federal requirements. Therefore, EPA is proposing to approve this rule.

60. Rule 15A NCAC 02D .2608, “Number of Runs and Compliance Determination”

North Carolina originally adopted Rule .2608 on March 13, 2008, and submitted it for EPA approval on November 19, 2008. It was adopted to state the required number of testing runs required and possible reductions of required test runs under unavoidable and unforeseeable circumstances. EPA has evaluated this rule and has made the preliminary determination that this rule is consistent with federal requirements. Therefore, EPA is proposing to approve this rule.

61. Rule 15A NCAC 02D .2612, “Nitrogen Oxide Testing Methods”

North Carolina originally adopted Rule .2612 on March 13, 2008, and submitted it for EPA approval on November 19, 2008. It was adopted to use Method 7 or Method 7E of Appendix A of 40 CFR part 60 for combustion sources not required to use continuous emissions monitoring and Method 20 of Appendix A of 40 CFR part 60 for stationary gas turbines. EPA has evaluated this rule and has made the preliminary determination that this rule is consistent with federal requirements. Therefore, EPA is proposing to approve this rule.

62. Rule 15A NCAC 02D .2613, “Volatile Organic Compound Testing Methods”

North Carolina originally adopted Rule .2613 on March 13, 2008, and submitted it for EPA approval on November 19, 2008. It was adopted to require the use of Method 24 of Appendix A of 40 CFR Part 60 for printing inks and related coatings, a specified procedure to determine solvent emissions from solvent metal cleaning equipment, and the procedures set forth in 40 CFR 60.503 at bulk gasoline terminals. EPA has evaluated this rule and has made the preliminary determination that this rule is consistent with federal requirements. Therefore, EPA is proposing to approve this rule.

63. Rule 15A NCAC 02D .2614, “Determination of VOC Emission Control System”

North Carolina originally adopted Rule .2614 on March 13, 2008, and submitted it for EPA approval on November 19, 2008. It was adopted to require specific protocols and test methods to determine the collection or control efficiency of any device or system operated for the purpose of reducing volatile organic compound emissions. EPA has evaluated this rule and has made the preliminary determination that this rule is consistent with federal requirements. Therefore, EPA is proposing to approve this rule.

64. Rule 15A NCAC 02D .2615, “Determination of Leak Tightness and Vapor Leaks”

North Carolina originally adopted Rule .2615 on March 13, 2008, and submitted it for EPA approval on November 19, 2008. It was adopted to test for leaks from gasoline tank trucks and vapor collection systems and to use procedures described in Method 27 of Appendix A of 40 CFR part 60 to annually certify truck tanks. EPA has evaluated this rule and has made the preliminary determination that this rule is consistent with federal requirements. Therefore, EPA is proposing to approve this rule.

65. Rule 15A NCAC 02D .2621, “Determination of Fuel Heat Content Using F-Factor”

North Carolina originally adopted Rule .2621 on March 13, 2008, and submitted it for EPA approval on November 19, 2008. It was adopted to determine rates for wood or fuel burning sources using the “Oxygen Based F Factor Procedure” described in Section 5 of Method 19 of Appendix A of 40 CFR Part 60 or other procedures described in Method 19. EPA has evaluated this rule and has made the preliminary determination that this rule is consistent with federal requirements. Therefore, EPA is proposing to approve this rule.

III. Effect of This Proposed Action

The effect of this proposed action is to approve or conditionally approve the aforementioned requirements for RACT and CTG source categories into in the North Carolina SIP for the State's portion of the bi-state Charlotte Area. Today, EPA is proposing to approve SIP revisions submitted on June 15, 2007, November 19, 2008, February 3, 2010, and April 6, 2010. Additionally, EPA is proposing to approve in part, and conditionally approve in part, North Carolina's SIP revisions submitted on October 14, 2004, April 6, 2007, January 31, 2008, September 18, 2009, and November 9, 2010. EPA is proposing to conditionally approve North Carolina's SIP as it relates to VOC RACT because these SIP revisions do not provide the appropriate applicability thresholds for certain CTG sources.

In a August 30, 2012, letter, North Carolina committed to provide a SIP revision to correct the applicability thresholds for these CTG sources. If North Carolina fails to submit the SIP revision by March 13, 2014, today's conditional approval will automatically become a disapproval on that date and EPA will issue a finding of disapproval. EPA is not required to propose the finding of disapproval. If the conditional approval is converted to a disapproval, the final disapproval triggers the Federal Implementation Plan requirement under section 110(c). However, if the State meets its commitment within the applicable timeframe, the conditionally approved submission will remain a part of the SIP until EPA takes final action approving or disapproving the new submittal.

IV. Proposed Action

EPA is proposing to approve several SIP revisions submitted to EPA by the State of North Carolina, through NC DENR, to address the NOX RACT requirements for the North Carolina portion of the bi-state Charlotte Area. Additionally, EPA is proposing to approve in part, and conditionally approve in part several SIP revisions to address the VOC RACT requirements and related CTG requirements. Specifically, North Carolina submitted SIP revisions on October 14, 2004, April 6, 2007, June 15, 2007, January 31, 2008, November 19, 2008, September 18, 2009, February 3, 2010, April 6, 2010, and November 9, 2010, to address NOX RACT, VOC RACT and CTG requirements. Together, these SIP revisions establish the RACT requirements for the major sources located in the North Carolina portion of the bi-state Charlotte Area. In a separate rulemaking, EPA has already taken action on RACT and CTG requirements for the South Carolina portion of the bi-state Charlotte Area.

EPA has evaluated the proposed revisions to North Carolina's SIP, and has made the preliminary determination that they are consistent with statutory and regulatory requirements and EPA guidance except for the applicability for some CTG VOC sources. Consistent with section 110(k)(4) of the Act, EPA is relying upon a commitment by North Carolina to include appropriate applicability thresholds for VOC RACT for the all sources addressed by CTG in the Area as a basis for conditionally approving North Carolina's SIP revisions as they relate to VOC RACT.

V. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely proposes to approve state law as meeting federal requirements and does not impose additional requirements beyond those imposed by State law. For that reason, this proposal action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because the determination does not have substantial direct effects on an Indian Tribe. There are no Indian Tribes located within the North Carolina portion of the bi-state Charlotte nonattainment area.

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: March 5, 2013.
A. Stanley Meiburg,
Acting Regional Administrator, Region 4.

[FR Doc. 2013-05838 Filed 3-12-13; 8:45 am]

BILLING CODE 6560-50-P